DEPARTMENT OF EDUCATION

[Docket ID ED-OS-2010-0011]

RIN 1894-AA00

Supplemental Priorities for Discretionary Grant Programs

AGENCY: Department of Education.

ACTION: Notice of final supplemental priorities and definitions for discretionary grant programs.

SUMMARY: The Secretary of Education announces priorities and definitions to be used for any appropriate discretionary grant program in fiscal year (FY) 2011 and future years. We take this action to focus Federal financial assistance on expanding the number of Department programs and projects that support activities in areas of greatest educational need. We are establishing these priorities on a Department-wide basis. This action permits the Department to use, as appropriate for particular discretionary grant programs, one or more of these priorities in any discretionary grant competition. We also announce definitions of key terms used in these priorities.

DATES: Effective Date: These priorities and definitions are effective January 14, 2011.

FOR FURTHER INFORMATION CONTACT: Margo Anderson, U.S. Department of Education, 400 Maryland Avenue, SW., room 4W311, Washington, DC 20202-5910. Telephone: (202) 205-3010 or by e-mail at: Margo.Anderson@ed.gov.

If you use a telecommunications device for the deaf (TDD), call the Federal Relay Service, toll free, at 1-800-877-8339.

SUPPLEMENTARY INFORMATION:

Background: The President has set a clear goal for our education system: By 2020, the United States will once again lead the world in the proportion of citizens holding college degrees or other postsecondary credentials. To support the national effort to meet this goal, the Secretary has outlined an ambitious, comprehensive education agenda that includes early learning programs that help ensure that children are ready to succeed in school, elementary and secondary schools that keep children on track to graduate from high school with the knowledge and skills needed for success in college and careers, and a higher education system that gives every individual the opportunity to attend and graduate from a postsecondary program. To ensure that the Department's discretionary grant programs effectively spur innovation, promote the development and implementation of effective and sustainable practices, and support adoption and implementation of necessary reforms, the Secretary announces priorities in three key areas: advancing key cradle-to-career educational reforms, addressing the needs of student subgroups, and building capacity for systemic continuous improvement.¹

¹ Reminder of Accountability Requirements: We remind potential applicants that in reviewing applications in any discretionary grant competition, under 34 CFR 75.217(d)(3), the Secretary may consider the past performance of the applicant in carrying out a previous award, such as the applicant's use of funds and its compliance with grant conditions. The Secretary may also consider whether the applicant failed to submit a performance report or submitted a report of unacceptable quality.

Under 34 CFR 74.14 and 80.12, the Secretary may impose special conditions on a grant if the applicant or grantee is not financially stable; has a history of unsatisfactory performance; has a financial or other management system that does not meet the standards in 34 CFR part 74 or 80, as applicable; has not fulfilled the conditions of a prior grant; or is otherwise not responsible.

In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a competitive grant award, the Secretary also requires various assurances and, in making a continuation award, considers whether the grantee is operating in compliance with its current assurances, including those under applicable Federal civil rights laws and the regulations in 34 CFR parts 100 through 110 that prohibit discrimination in programs or activities receiving Federal financial assistance from the Department of Education.

Program Authority: 20 U.S.C. 1221e-3, 3474.

We published a notice of proposed priorities and definitions (NPP) for the Department in the Federal Register on August 5, 2010 (75 FR 47284). That notice contained background information and our reasons for proposing the particular priorities and definitions. The Department has made several significant changes from the NPP. We explain these changes in the Analysis of Comments and Changes section elsewhere in this notice.

Public Comment: In response to our invitation in the NPP, approximately 150 parties submitted comments on the proposed priorities and definitions. We discuss substantive issues that pertain to all of the priorities generally under a “General Comments” section. We discuss substantive issues that are specific to a particular priority under the title of the priority to which those issues pertain. Generally, we do not address technical and other minor changes or comments that are outside of the scope of the proposed priorities and definitions.

Analysis of Comments and Changes: An analysis of the comments and of any changes in the priorities and definitions since publication of the NPP follows.

General Comments

Comment: We received a number of comments that appeared to reflect that commenters may have misunderstood the purpose and intended use of these priorities. One commenter stated that it was unclear how the priorities would “interact” with current and future discretionary grant programs. Another commenter asked whether the Department intended for these priorities to supersede authorizing language that establishes the purpose, eligibility, and use of funds that Congress typically includes in legislation. Some commenters asked whether the discretionary grant programs funded under Part D of the Individuals with Disabilities Education Act (IDEA) would be superseded by the priorities and argued that the IDEA Part D programs should remain as separate discretionary grant programs to ensure that the unique needs of students with disabilities are met. Other commenters asked how the Department would select the programs that would be subject to these priorities.

Discussion: We want to be clear that the focus of any discretionary grant program is established by its authorizing legislation. Congress, through its actions, determines how funds are to be used, and the Department develops application notices and awards grants in a manner consistent with the authorizing statute and Congressional intent. Within the parameters of the authorizing statute, the Department often has flexibility in shaping the uses of funds for a specific discretionary grant program or in targeting funds for specific entities or needs and may, and often does, exercise that discretion by choosing to issue regulations for an individual program. The Department also has the flexibility under its general rulemaking authority to establish more general priorities that could apply to a number of different programs, and the Department has chosen to take that path with the establishment of these priorities. In any given discretionary program, the Department may decide to include one or more of these priorities in a notice inviting applications for a grant competition, but only if doing so is consistent with the program statute and applicable regulations. When a priority includes several priority areas, the Department may choose to include all of the priority areas or select those that are most appropriate and applicable, consistent with the program statute and applicable regulations. For example, Priority 1 (Improving Early Learning Outcomes) includes the following five priority areas: (a) Physical well-being and motor development; (b) social-emotional development; (c) language and literacy development; (d) cognition and general knowledge, including early numeracy and literacy development; and (e) cognition and general knowledge, including numeracy and early scientific development. The Department could select all or some of the priority areas (a) through (e) to include in a given notice, assuming that doing so would be consistent with the program statute and applicable regulations.

These priorities will not supersede the discretionary grant programs authorized under Part D of the IDEA. Rather, in administering competitions for particular discretionary grant programs, including those authorized under Part D of the IDEA (e.g., teacher preparation programs, technical assistance programs), the Department may use one or more of these priorities to focus the competition on a particular area consistent with the overall intent and the applicable statutory parameters of the program. The Department will select the programs that will use these priorities based on this framework.

Changes: None.

Comment: Several commenters requested clarification regarding how the Department decides whether to designate a priority as an absolute, competitive preference, or invitational priority.

Discussion: Under the Department's regulations (34 CFR 75.105), the Department has the authority to select the programs that would be subject to these priorities and to designate each priority as an absolute, competitive preference, or invitational priority, consistent with the authorizing statute that establishes the program. The Department considers the relative importance, appropriateness, and significance of a priority in determining whether to consider only applications that meet the priority (i.e., an absolute priority); to award additional points to an application meeting the priority or to select an application that meets the priority over an application of comparable merit that does not meet the priority (i.e., a competitive preference priority); or to encourage applications that address the priority, but to give no preference to applications that do so (i.e., an invitational priority).

Changes: None.

Comment: One commenter expressed concern that issuing these priorities as final would preempt the opportunity for the public to comment on how the priorities will be used in particular programs and urged the Department to clarify whether there will be opportunities for the public to comment on how the priorities will be used on a program-by-program basis. Several commenters expressed concern that the priorities appear to effectively create and implement education policy outside of the legislative process and without the involvement of stakeholders and elected officials. One commenter recommended that there be a more complete and open review of the proposed priorities and that Congressional hearings be held to review the notice before it is finalized; absent such hearings, the commenter recommended that the Department provide Congressional committees with periodic reports or appear at oversight hearings to review the impact of these priorities and definitions on education.

Discussion: As stated in the NPP, the purpose of establishing these priorities is to permit the Department to use, as appropriate for particular discretionary grant programs, one or more of these priorities in any discretionary grant competition. Establishing these final priorities will permit the Department to include one or more of them in a notice inviting applications without having to go through a public notice-and-comment process each time the Department wishes to use one or more of these priorities in a discretionary grant program. This action, therefore, generally will allow the Department to conduct grant competitions and make awards in a timelier manner and thereby better serve States, districts, institutions, and other grantees. The Secretary is not establishing these priorities outside of the legislative process but rather pursuant to his general authority to promulgate regulations (20 U.S.C. 1221e-3, 3474).

We disagree that stakeholders have not had the opportunity to provide sufficient input. Approximately 150 commenters offered feedback and recommendations on the proposed priorities. We received valuable input from the public and took commenters' recommendations into account in drafting these final priorities and definitions. Indeed, as explained elsewhere in this notice, we are making several changes to the final priorities and definitions to address commenters' feedback, as well as adding several priorities in response to comments received.

Changes: None.

Comment: We received several comments from individuals who construed the priorities to be part of the Department's Elementary and Secondary Education Act (ESEA) reauthorization proposal and objected to what they believed was the consolidation and conversion of existing formula grant programs into competitive grants.

Discussion: These priorities will provide flexibility for the Department to include one or more of these priorities in a notice inviting applications for existing competitive grant programs if doing so is consistent with the program statute and regulations. With these priorities, we do not intend to consolidate or convert existing ESEA formula grant programs into competitive grant programs.

Changes: None.

Comments: Several commenters expressed concern that projects proposing to serve students with disabilities were not proposed as a separate priority. Other commenters stated that the needs of students with disabilities should be addressed in all of the proposed priorities, not just in a few.

Discussion: These priorities serve all students, including students with disabilities. Additionally, students with disabilities are specifically referred to in several of the priorities. For example, new Priority 9 (proposed Priority 6) (Improving Achievement and High School Graduation Rates) specifically focuses on projects that accelerate learning and help improve high school graduation rates and college enrollment rates for students with disabilities. New Priority 10 (proposed Priority 7) (Promoting Science, Technology, Engineering, and Mathematics (STEM) Education) specifically refers to individuals with disabilities as one of the groups that are traditionally underrepresented in STEM careers and for which this priority could be used to increase the number of such students that have access to rigorous and engaging coursework in STEM and are prepared for postsecondary or graduate study and careers in STEM. In addition, we have included a specific reference to students with disabilities in the definition of high-need children and high-need students, which is used in Priority 1 (Improving Early Learning Outcomes), new Priority 8 (proposed Priority 5) (Increasing Postsecondary Success), and new Priority 9 (proposed Priority 6) (Improving Achievement and High School Graduation Rates). In sum, we believe that we have included specific references to students with disabilities where such references are most appropriate and would be most helpful in targeting funds on activities that would improve services to, and outcomes for, such students.

Changes: None.

Comment: One commenter expressed concern that only Priority 1 (Improving Early Learning Outcomes) included a focus on literacy. The commenter stated that literacy instruction is a fundamental instructional priority for elementary and secondary students and recommended that literacy instruction and professional development be added as a separate priority or integrated throughout the priorities.

Discussion: We agree that literacy is essential to students' success in school. Although literacy instruction is not specifically referenced in every priority, the purpose of these priorities is to help improve student achievement and ensure that all children are ready to succeed in school and are on track to graduate from high school with the knowledge and skills needed for success in college and careers. Thus, we think that literacy instruction is encompassed within the priorities. We, therefore, do not believe that a separate priority with a specific focus on literacy instruction is needed.

Changes: None.

Comment: One commenter expressed concern about using any of the priorities for the Federal TRIO Programs authorized by Title IV of the Higher Education Act of 1965, as amended (HEA). The commenter recommended that these priorities be incorporated into separate, specialized competitions that would provide supplemental funds to currently-funded TRIO grantees. The commenter stated that imposing these priorities could potentially deny services to students who are otherwise eligible to participate in TRIO programs and that the legislative history of TRIO clearly rejects the use of any priorities other than those that promote continuity of student services through the consideration of the prior experience of grant applications in successfully providing TRIO services.

Discussion: These priorities are not intended to replace the priorities applicable to the TRIO programs under Title IV of the HEA. As mentioned earlier, this action will provide flexibility for the Department to include one or more of these priorities in a notice inviting applications if doing so is consistent with the authorizing statute. We do not agree with the commenter's suggestion that these priorities should not be applied to the TRIO programs. The Department has the authority to establish appropriate priorities for the TRIO programs and has done so in the past. We believe that certain of these priorities are fully consistent with and will contribute to achieving the goals of the TRIO programs and accordingly may apply the priorities to one or more of the TRIO programs, as appropriate.

Changes: None.

Comment: One commenter stated that new Priority 11 (proposed Priority 8) (Promoting Diversity), which focuses on projects that are designed to promote student diversity, including racial and ethnic diversity, will provide significant educational benefits to all students. However, the commenter expressed concern about the absence of a priority on achieving gender equity.

Discussion: We agree that all students should have equal access to high-quality education programs and have made this explicit in new Priority 10 (proposed Priority 7) (Promoting STEM Education), which specifically refers to groups traditionally underrepresented in STEM careers, including minorities, individuals with disabilities, and women. Given this priority and new Priority 11 (proposed Priority 8) (Promoting Diversity), we do not believe it is necessary to have a separate priority on gender equity.

Changes: None.

Comment: We received a number of recommendations to add other priorities to this notice. One commenter recommended including in all of the priorities a requirement that applicants use “universal design for learning” in their projects. Another commenter stated that the priorities lack a substantive focus on the arts, history, social science, and physical education. One commenter recommended adding a priority that focuses on increasing and protecting the rights of young people by ending domestic and dating violence.

Discussion: While we appreciate the commenters' recommendations for additional priorities, we believe that the priorities included in this notice have the greatest potential to significantly improve student achievement and student outcomes, and to ensure that the Department's discretionary grant programs effectively spur innovation and promote the development and implementation of effective and sustainable practices. In addition, we believe these priorities support adoption of the reforms needed to meet the President's goal for the U.S. by 2020 to once again lead the world in the proportion of citizens holding college degrees or other postsecondary credentials.

Changes: None.

Comment: One commenter expressed concern that the Department did not provide sufficient time for public comment on the proposed priorities. This commenter also stated that because the Department published the proposed priorities at the beginning of the school year, school leaders and educators did not have enough time to provide meaningful feedback on the proposed priorities. The commenter requested that the Department provide an additional 30 days for comment on the proposed priorities.

Discussion: As we stated earlier, we believe the 30-day comment period was sufficient to ensure timely and meaningful comment on the proposed priorities. We understand that the timing of Department notices may not always be optimal for all education stakeholders. The Department strives to balance the needs of our stakeholders with our desire for public input. In addition, we take into consideration our need to publish discretionary grant notices in a timely manner so that applicants have sufficient time to prepare their applications and the Department has sufficient time to conduct a thorough peer review of those applications. We decline to provide an additional 30 days for public comment because to do so would limit our ability to use these priorities in our notices inviting applications for discretionary grants as early as possible in FY 2011, while also making timely awards.

Changes: None.

Priority 1—Improving Early Learning Outcomes

Comment: One commenter expressed concern that Priority 1 could be used for projects that are focused solely on children in the early elementary years rather than on projects that address the needs of early learners from birth through third grade. Another commenter stated that rather than focusing on the entire birth-through-third grade continuum, the priority should focus on distinct age groups within the continuum (i.e., infants and toddlers, three- and four-year old children, and primary-grade children).

Discussion: Our intent is to use this priority across a number of different programs. Therefore, we do not want to unnecessarily limit its focus by requiring all projects to address the entire birth-through-third grade continuum. We are adding language to make this clear.

Changes: We have added the parenthetical, “(or for any age group of high-need children within this range)” following “birth through third grade.” The introduction to Priority 1 now reads: “Projects that are designed to improve school readiness and success for high-need children (as defined in this notice) from birth through third grade (or for any age group of high-need children within this range) through a focus on one or more of the following priority areas.”

Comment: One commenter expressed concern with the priority's option for projects to address one or more of the priority areas (e.g., physical well-being and motor development, social-emotional development, language and literacy development), rather than requiring projects to address all of the priority areas. The commenter stated that projects focusing on only one of the priority areas might not improve school readiness for high-need children.

Discussion: The focus of each of the Department's discretionary grant programs is determined by the program's authorizing statute that directs, and generally determines, how funds can be used. For example, there are discretionary grant funds that can only be used to support literacy activities but cannot be used for activities focused on physical well-being and motor development. We intend to ensure that Priority 1 can be used in a range of Department programs. Therefore, we have chosen to allow programs to select one or more of the priority areas under Priority 1 and decline to make the change requested by the commenter.

Changes: None.

Comment: Several commenters recommended that Priority 1 include topics that are the subject of other proposed priorities. One commenter recommended adding a focus on improving the effectiveness of teachers who teach young children. Another commenter recommended adding a focus on the needs of young children with parents who are serving in the military. One commenter recommended including a focus on improving and aligning State standards in all early learning domains and ensuring that curricula and instructional assessments are consistent with expert recommendations. Another commenter recommended including a focus on effective collaboration, coordination, and data-based decision-making.

Discussion: The priority does not preclude applicants from proposing the projects suggested by the commenters, so long as the proposals address one or more of the priority areas identified and comply with the applicable statute and program regulations. We believe that it is unnecessary to add a focus in Priority 1 on areas that are the same as those covered in other priorities because the Department can use more than one priority for a particular discretionary grant program competition. For example, if the Department wishes to focus a competition on improving the effectiveness of teachers who teach young children, it can include both Priority 1 (Improving Early Learning Outcomes) and Priority 3 (Improving the Effectiveness and Distribution of Effective Teachers and Principals) in its notice inviting applications. On the other hand, in some competitions it might not be appropriate or legally allowable to focus Priority 1 on specific issues or populations; framing the priority in a flexible manner, as we have done, would allow the Department to use it in such a context.

Changes: None.

Comment: Several commenters recommended that language be added to the priority to emphasize meeting the diverse needs of children, including those who exhibit early signs of disabilities or giftedness. Another commenter stated that Priority 1 should address the special needs of English learners.

Discussion: Priority 1 focuses on high-need children from birth through third grade. As defined in this notice, the term high-need children and high-need students includes children and students at risk of educational failure, and specifically refers to English learners and children and students with disabilities as examples of high-need children. As written, the definition would also encompass children who are gifted if those children are at risk of educational failure. Therefore, we have concluded that it is unnecessary to include the additional language suggested by the commenters.

Changes: None.

Comment: One commenter recommended replacing “education” with “early learning and education” to emphasize the importance of improving the quality of education from “cradle to career.”

Discussion: In this priority, we believe “education” broadly includes “early learning” and, therefore, decline to make the change suggested by the commenter.

Changes: None.

Comment: One commenter stated that children participating in camp programs show significant growth in such areas as self-esteem, independence, and leadership, and recommended that outcome-based camp programs be deemed eligible recipients of funds under any of the Department's discretionary grant programs that use Priority 1. Another commenter stated that Priority 1 should be an absolute priority or a competitive preference priority in all Department discretionary grant programs in order to emphasize the importance of investments in young children. One commenter recommended that reviewers of proposals submitted in competitions that apply Priority 1 should include professionals with expertise in each phase of child development, including the development of infants and toddlers.

Discussion: This notice does not address the issue of who is eligible to apply for particular grants or whether a priority is designated as an absolute priority, competitive preference priority, or invitational priority. Those decisions are determined by the authorizing legislation and by the Department in announcing individual competitions. In addition, it would not be appropriate to apply Priority 1 to every Department competition as many of our competitive programs (such as those in the areas of higher education and vocational rehabilitation) have no real connection to early learning. Similarly, we will not address the peer review process here, other than to reassure the commenter that as part of the Department's competitive grant process, the Department selects reviewers based on their expertise in the area or areas to be addressed in each discretionary grant program.

Changes: None.

Comment: One commenter recommended adding “creative arts” to the priority areas included in Priority 1. The commenter stated that engaging children in creative arts can improve their learning in other developmental areas. Another commenter recommended including a priority area that focuses on curricula that encourage communication and reasoning and provide children with an “atmosphere of respect, encouragement, and enthusiasm for learning.”

Discussion: We do not believe it is necessary to make the changes requested by the commenters because the priority areas in Priority 1 already include “approaches toward learning,” which refers to a child's disposition over a range of attitudes, habits, and learning styles, including the capacity for invention, creativity, and imagination. These are demonstrated through all domains, including creative arts. Priority 1 could, therefore, be used to fund projects that use creative arts or other curricula in order to improve school readiness and success for high-need children, provided such a focus was supported by the program statute and regulations.

Changes: None.

Comment: One commenter recommended that the Department add “early career exploration” as a priority area to Priority 1. The commenter stated that it is important to expose children to role models early in life and to avoid the development of biases and stereotypes that could possibly evolve into barriers for students' success in their careers and life in general.

Discussion: We believe that adding language on early career exploration to Priority 1 would unnecessarily limit the focus of the priority. However, a project that focuses on early career exploration for high-need children from birth through third grade could be responsive to priority area (d) if the project used early career exploration as an approach to learning that would improve school readiness and success for high-need children, and if such a focus was authorized by the program statute and regulations.

Changes: None.

Comment: One commenter recommended revising Priority 1 to emphasize alignment and coordination with existing early childhood programs that are serving infants, toddlers, and young children (e.g., programs under the IDEA).

Discussion: While we agree that early childhood programs should coordinate with each other, we decline to make the suggested change because the priority focuses on the outcomes to be achieved—improving school readiness and success—rather than on the specific strategies that an applicant may choose for attaining an outcome.

Changes: None.

Priority 2—Implementing Internationally Benchmarked, College- and Career-Ready Elementary and Secondary Academic Standards

Comment: We received several comments regarding the content and nature of the academic standards supported by projects under this priority. One commenter expressed concern that the priority would support projects using only academic standards developed under the Common Core State Standards initiative; this commenter recommended that the Department use the priority to support implementation of other rigorous academic standards commonly used in States, such as standards for Advanced Placement and International Baccalaureate courses. Two commenters suggested that the Department revise the priority to include support for projects using academic standards that are rigorous but might not be common among multiple States; one of these commenters expressed concern that, with this priority, the Department is advocating for national academic standards that might not be suitable in all States or regions of the country.

Discussion: The Department does not require that any specific academic standards be supported to meet this priority, only that they be internationally benchmarked, ensure that students graduate from high school college- and career-ready, and be held in common by multiple States. While we are not mandating the use of specific academic standards, and will not apply Priority 2 to restrict applicants to using only one set of standards, the Department believes strongly that adoption of common K-12 academic standards by States will provide a foundation for more efficient and effective creation of the assessment, instructional, and professional development resources needed to implement a coherent system of teaching and learning. The Department intends to use this priority to support the implementation of academic standards that are common among multiple States and are adopted voluntarily by States and their local educational agencies (LEAs).

Changes: None.

Comment: A number of commenters recommended that the Department revise the priority to include support for projects advancing the implementation of a broader range of standards. Commenters recommended standards in the following areas: social, emotional, cultural, vocational, physical skills, civics, and health and sexuality. In addition, one commenter recommended that the Department revise the priority to include support for “21st Century skills” standards, including critical thinking and other skills relating to employment. Some of these commenters argued that mastery of these standards is also needed if students are to be career-ready.

Discussion: The Department recognizes that development of standards in many of the areas mentioned by the commenters is important, and we commend the work that States and other stakeholders may be undertaking to develop common and rigorous standards in these areas. This priority could be used to support implementation of those standards as well, if they are internationally benchmarked, college- and career-ready, and held in common by multiple States.

Changes: None.

Comment: We received several comments recommending that the Department provide greater specificity in terms of the projects that the priority could support. One commenter recommended that the Department revise the priority to mention specifically that projects in career and technical education may support the implementation of college- and career-ready standards. Another commenter suggested that the Department revise paragraph (a) of the priority to support the development and implementation of specific types of assessments including: Longitudinal assessments (i.e., assessments that measure student growth over time); assessments that include performance tasks; portfolio assessments; and assessments that incorporate classroom-based observations. Another commenter recommended that the Department revise paragraph (c) of the priority to specify the types of professional development or preparation programs that may be used to meet the priority; the commenter recommended that only programs that are research-based and include clinical experiences (such as teacher residency programs) be permitted under the priority.

We also received several comments recommending that we provide greater specificity on the types of student subgroups that projects under the priority should serve. Several commenters recommended that we revise the priority to include a focus on projects implementing college- and career-ready academic standards for students with diverse learning needs, including gifted, talented, and other advanced students, as well as students with disabilities. Another commenter recommended that we revise the priority to include a focus on projects implementing standards for highly mobile students.

Discussion: We decline to revise the priority in the manner recommended by the commenters as such changes could unnecessarily limit the applicability of the priority across Department programs. We note that the types of projects mentioned by the commenters would not be prohibited under this priority and that, in a program using the priority, such projects may be allowable provided they comply with applicable program statutes and regulations.

Changes: None.

Comment: One commenter recommended that the Department revise paragraph (a) of the priority to support the development and implementation of assessments that are both aligned with college- and career-ready academic standards and designed to improve teaching and learning. The commenter asserted that this revision would help clarify that assessments can be used for instructional improvement as well as for accountability purposes.

Discussion: We agree with the commenter on the importance of supporting projects that improve instruction and learning. To promote this goal, we are revising the priority so that the goal of improved instruction and learning applies to all projects covered by the priority.

Changes: We have revised the introduction to Priority 2 by adding “and to improve instruction and learning” following “held in common by multiple States.” With this revision, the introduction reads as follows: “Projects that are designed to support the implementation of internationally benchmarked, college- and career-ready academic standards held in common by multiple States and to improve instruction and learning, including projects in one or more of the following priority areas.”

Comment: One commenter recommended that the Department revise paragraph (b) of the priority to include support for the development and implementation of curricula as well as instructional materials. The commenter asserted that more attention should be paid to the development of curricula aligned with new college- and career-ready standards.

Discussion: We agree with the commenter and are revising this paragraph of the priority to include support for the development and implementation of curricula aligned with college- and career-ready standards.

Changes: We have added “curriculum or” before “instructional materials” in paragraph (b) of this priority. With this revision, paragraph (b) reads as follows: “The development or implementation of curriculum or instructional materials aligned with those standards.”

Comment: One commenter recommended that the Department revise paragraph (d) of the priority to include support for ongoing school-level support systems, as well as strategies that translate standards into classroom practice. The commenter asserted that more attention should be paid to the support structures needed to implement new college- and career-ready academic standards with fidelity.

Discussion: We appreciate the commenter's concerns; however, we do not believe we should specify the strategies that may be used under paragraph (d) as this could limit the applicability of the priority across Department programs. Further, we believe that implementing school-level support systems is a strategy for translating standards into classroom practice and, therefore, is already covered under the priority.

Changes: None.

Comment: One commenter recommended that the Department revise the priority to include an additional paragraph promoting equity of conditions and resources for implementing college- and career-ready academic standards across schools.

Discussion: We believe that funding projects through programs using this priority promotes equity in schools' abilities to implement college- and career-ready academic standards and, accordingly, that the revision recommended by the commenter is unnecessary.

Changes: None.

Priority 3—Improving the Effectiveness and Distribution of Effective Teachers or Principals

Comment: Several commenters recommended that we revise this priority to include preparation, recruitment, retention, professional development, and increasing salaries as ways of improving teacher and principal effectiveness or ensuring the equitable distribution of teachers and principals. Other commenters suggested more specific methods for improving the effectiveness of teachers and principals, such as: Providing teachers with opportunities to mentor each other to prevent isolation; training teachers and principals to identify and address unique learning needs; supporting professional development programs; providing teachers with a daily planning period; supporting teacher preparation programs; and requiring teachers to acquire different credentials for different geographic areas.

Discussion: The Department agrees that improving the preparation, recruitment, retention, and professional development of teachers and principals, and improving their compensation systems can be effective methods for improving teacher and principal effectiveness and the equitable distribution of teachers and principals. We also believe that improving the evaluation of teachers and principals and implementing performance-based certification and retention systems can improve the effectiveness and distribution of teachers and principals. Therefore, we are revising the priority to include these activities as examples of methods that a project might use under this priority. However, we do not believe it is necessary to reference the more specific activities suggested by the commenters as this level of specificity may inadvertently limit the focus of the priority. We note that this priority would not preclude an applicant from focusing its project on these specific activities, provided such a focus was authorized by the program statute and regulations.

Changes: We have added “improving the preparation, recruitment, development, and evaluation of teachers and principals; implementing performance-based certification and retention systems; and reforming compensation and advancement systems” as examples of the types of methods that might be used to improve teacher and principal effectiveness.

Comment: Several commenters suggested that we revise the priority to clarify how States and school districts should evaluate teachers and principals. A number of these commenters expressed concern that student test scores would be the only evaluation measure that would be supported under the priority. One commenter recommended that continued and sustained growth in student achievement is the best way to evaluate teachers and principals. Several commenters suggested that the Department provide more flexibility in the definitions of effective teacher and effective principal to take into account different State and local contexts. Other commenters suggested that the Department revise the priority to include the use of positive learning conditions as an example of a supplemental evaluation measure.

A number of commenters expressed concerns regarding the proposed definitions of effective principal, effective teacher, highly effective principal, and highly effective teacher. Several commenters objected to assessing principal and teacher effectiveness based in significant part on student achievement on standardized tests and questioned the validity and reliability of “value-added” measures. Others stated that measures of growth in student achievement have not been adequately studied for the purposes of evaluating teachers and principals and expressed concerns about implementing such systems in a manner that is fair, reliable, and valid.

Discussion: We agree that the priority should take into account the varied contexts of States and districts, including the fact that some States have made great strides toward establishing high-quality teacher and principal evaluation systems that take into account student growth, in significant part, along with multiple measures of effectiveness, while other States have not yet progressed to that point. Thus, to clarify the Department's intent, we are revising the priority to ensure that the priority is applicable to States and districts that have in place high-quality teacher and principal evaluation systems, as well as States and districts where such systems are not yet established. The new language focuses on measuring teacher and principal effectiveness using data that include student growth in significant part, but does not require student achievement or student growth data to be the only measure of teacher or principal effectiveness; other measures, such as those proposed by the commenters, could be included as measures of effectiveness under this priority. Given these changes, the definitions of effective principal, effective teacher, highly effective principal, and highly effective teacher are no longer needed and we are removing them from this priority.

Changes: We have revised Priority 3 to read as follows: “Projects that are designed to address one or more of the following priority areas:

(a) Increasing the number or percentage of teachers or principals who are effective or reducing the number or percentage of teachers or principals who are ineffective, particularly in high-poverty schools (as defined in this notice) including through such activities as improving the preparation, recruitment, development, and evaluation of teachers and principals; implementing performance-based certification and retention systems; and reforming compensation and advancement systems.

(b) Increasing the retention, particularly in high-poverty schools (as defined in this notice), and equitable distribution of teachers or principals who are effective.

For the purposes of this priority, teacher and principal effectiveness should be measured using:

(1) Teacher or principal evaluation data, in States or local educational agencies that have in place a high-quality teacher or principal evaluation system that takes into account student growth (as defined in this notice) in significant part and uses multiple measures that, in the case of teachers, may include observations for determining teacher effectiveness (such as systems that meet the criteria for evaluation systems under the Race to the Top program as described in criterion (D)(2)(ii) of the Race to the Top notice inviting applications (74 FR 59803)); or

(2) Data that include, in significant part, student achievement (as defined in this notice) or student growth (as defined in this notice) data and may include multiple measures in States or local educational agencies that do not have the teacher or principal evaluation systems described in paragraph (1).”

Comment: Two commenters recommended that the Department revise the priority to identify other types of educational support staff, such as administrators, therapists, and early learning practitioners.

Discussion: We agree that a wide array of educators and school personnel is critical to student success. However we have decided to focus this priority on improving the effectiveness of classroom teachers and principals because of their critical importance in raising student achievement.

Changes: None.

Comment: One commenter recommended that the priority be revised to take into consideration applicable negotiated labor agreements and other legal obligations.

Discussion: It is the responsibility of each applicant to ensure that its proposed project under this or any other priority takes into consideration any applicable Federal, State, or local legal obligations. It is also the responsibility of each applicant to ensure that its proposal abides by any applicable labor agreements.

Changes: None.

Comment: None.

Discussion: In reviewing the proposed priorities, we noticed that paragraph (b) of this priority regarding the retention and equitable distribution of teachers or principals who are effective should have included a reference to the retention of such teachers and principals in high-poverty schools. We are including this reference in the final priority.

Changes: We have revised paragraph (b) of the priority to add,“particularly in high-poverty schools (as defined in this notice),” after the word “retention.”

Priority 4—Turning Around Persistently Lowest-Achieving Schools

Comment: A number of commenters recommended that we revise the priority to include specific strategies to turn around persistently lowest-achieving schools. Many commenters recommended that the priority mention expanded learning time, including after-school and summer programs, as an acceptable approach to turning around schools. One commenter recommended revising the priority to provide support for career and technical education as a strategy to improve student achievement and increase graduation rates. Another commenter suggested that the Department revise the priority to encourage the use of technology to increase the capacity of schools to improve student achievement and graduation rates. One commenter expressed concern that the proposed priority did not mention “response to intervention” as a successful strategy for improving results for at-risk students. Another commenter recommended that the Department add language to specify that services be aligned with the efforts of other agencies in order to create a coordinated system of supports.

Discussion: We appreciate commenters' suggestions of promising strategies to turn around persistently lowest-achieving schools, but we are intentionally allowing flexibility in the possible approaches that could be used under this priority. Therefore, we decline to include the recommended strategies in this priority. This priority would not preclude an applicant from including in its proposal the suggested strategies provided that such strategies are authorized by the applicable program statute and regulations.

Changes: None.

Comment: Two commenters expressed concern that the four turnaround models required under the School Improvement Grants (SIG) program would be required in order for an applicant to meet this priority. These commenters recommended that a fifth option be added to provide more flexibility on the strategies that can be used in turning around persistently lowest-achieving schools.

Discussion: Priority 4 does not require implementation of the four SIG models (i.e., school turnaround, school transformation, school closure, restart), nor does it specify any strategies that must be used for turning around persistently lowest-achieving schools. As noted previously, this priority is focused on the outcomes listed in the priority, not on prescribing specific strategies for achieving those outcomes.

Changes: None.

Comment: One commenter recommended that the Department revise the priority to include support specifically for school turnaround efforts that are sustainable. The commenter stated that this change would help ensure that successful turnaround efforts will be rewarded with additional funding.

Discussion: We decline to make the change recommended by the commenter because the likelihood that a particular model or strategy would be sustainable in a given school is a factor that school officials must necessarily consider in making decisions about the model or strategies to implement in a school in need of improvement. It is unclear how selecting a sustainable model or strategies would necessarily lead to additional funding, as stated by the commenter.

Changes: None.

Comment: One commenter requested that the Department add a focus in Priority 4 on providing services to support military-connected students.

Discussion: Priority 4 is focused on the outcomes listed in the priority, not on specific subgroups of students. Therefore, we decline to make the change requested by the commenter. We note that new Priority 12 (proposed Priority 9) specifically focuses on support for military-connected students and their families.

Changes: None.

Comment: One commenter suggested that the priority be revised to require projects to focus on narrowing achievement gaps for all subgroups of students in persistently lowest-achieving schools. The commenter stated that the success of the whole school relies on the achievement of all students.

Discussion: We agree that narrowing the achievement gap for subgroups is an important goal for all schools, including persistently lowest-achieving schools. However, we decline to revise the priority because we believe that in persistently lowest-achieving schools, which are among the lowest-achieving schools in each State, the primary focus should be on improving student achievement for all students in the school.

Changes: None.

Comment: One commenter recommended that the Department revise paragraph (b) of this priority to include a focus on increasing graduation rates of students with disabilities. The commenter also recommended that the Department revise paragraph (c) to ensure that services provided to students are available and adequate for students with disabilities.

Discussion: We agree that it is important to include a focus on improving student achievement and increasing the graduation rates of students with disabilities. For this reason, we included a specific provision in new Priority 9 (proposed Priority 6) (Improving Achievement and High School Graduation Rates) that focuses on projects that accelerate learning and help improve high school graduation rates and college enrollment rates for students with disabilities. However, we decline to modify Priority 4 in the manner suggested by the commenter because the focus of this priority is on improving student achievement for all students in persistently lowest-achieving schools.

Changes: None.

Comment: Two commenters expressed concern that this priority's focus on schools meeting the definition of persistently lowest-achieving schools is too narrow. The commenters recommended that the priority be expanded to include support for other low-performing schools and for schools at risk of becoming low performing.

Discussion: We appreciate the commenters' concern about serving low-performing schools other than those that are persistently lowest-achieving. However, our intention with this priority is to focus specifically on the schools most in need of improvement, which are the persistently lowest-achieving schools, as defined in this notice. Accordingly, we decline to expand the scope of this priority.

Changes: None.

New Priority 5—Improving School Engagement, School Environment, and School Safety and Improving Family and Community Engagement

Comment: Numerous commenters suggested that the Department modify the proposed priorities to include support for projects that create safe and supportive schools and engage communities and families to improve student achievement.

Safe and Supportive Schools

Many commenters expressed support for the Department's discussion of school culture and climate in the background for proposed Priority 4 (Turning Around Persistently Lowest-Achieving Schools), and proposed Priority 10 (Data-Based Decision Making). Several commenters suggested that the Department add a separate priority that would support projects designed to improve school climate. For example, numerous commenters noted that a positive and supportive school climate and culture can help to improve students' academic achievement, especially for those students most at risk of not succeeding academically and for students attending persistently lowest-achieving schools. Several commenters articulated concerns about the negative impact that bullying and harassment can have on students, including lesbian, gay, bisexual, and transgender (LGBT) students, and these students' ability to achieve academic success. Commenters noted that bullying and harassment can lead to poor learning environments where students feel unsafe or in danger of physical harm, negatively affecting a student's ability to successfully complete high school and pursue postsecondary education. Multiple commenters cited research demonstrating that school environments influence student achievement. For example, one commenter described evidence showing that bullying, harassment, and unduly harsh disciplinary practices have serious academic consequences, including decreased interest in school, increased absences, decreased concentration levels, lower grades, and higher dropout rates. Multiple commenters also noted how important school climate is for military-connected students and, in particular, the need for schools to provide mental health support for students with deployed parents.

Family and Community Engagement

Numerous commenters urged the Department to establish a separate priority for projects that would focus on enhancing family engagement in students' learning. Commenters cited research showing that family engagement is a significant factor in student success, including in ensuring that students meet high academic standards and are college- and career-ready when they graduate from high school. Several commenters also noted how important it is to support parents' involvement in their children's education, particularly for children from low-income families, young children who participate in early learning programs, and children with disabilities. Multiple commenters emphasized the importance of engaging families as key partners in their children's education, working hand in hand with them in schools and ensuring that parents and families understand data and information on student performance. Another commenter recommended that if the Department establishes a priority focusing on family engagement, the priority should include support for projects that provide technical assistance to families of high-need students to support higher education and postsecondary success.

Multiple commenters suggested that the Department add a new priority that would support projects designed to promote community engagement in students' education. One commenter observed that family-led and community-based organizations can play a key role in implementing education reforms. Another commenter stated that for education reforms to be successful, there needs to be a strong relationship among communities, schools, and families at the very beginning of the reform process. Specifically, the commenter stated that community schools are the best vehicles to encourage and ensure high school completion and postsecondary success. These commenters also provided definitions for “community engagement” and “family engagement” and recommended that definitions of these terms be added to the final notice along with the new priority.

Discussion: The Department agrees that safe and supportive schools are critical to improving students' learning and enhancing teacher effectiveness. Students learn best when they are in a school environment with, among other things, positive relationships between adults and students; the absence of violence, bullying, harassment, and substance abuse; and readily available physical and mental health supports and services. The Department has been clear that preparing students for success requires learning environments that help all students to be safe, healthy, and supported in their classrooms, schools, and communities. For example, on July 9, 2010, the Department published a notice inviting applications for the Safe and Supportive Schools program to support statewide measurement of, and targeted interventions to improve, conditions for learning, and provided definitions of “school engagement,” “school environment,” and “school safety” (see 75 FR 39504). The Department also has been clear that bullying and harassing students, including LGBT students, is damaging to those students and unacceptable (see the guidance the Department provided on October 26, 2010, available at: http://www2.ed.gov/about/offices/list/ocr/letters/colleague-201010.pdf).

Similarly, the Department is committed to improving family and community engagement as part of its comprehensive approach to improving student achievement. Preparing students for success requires greater opportunities to engage families in their children's education and strengthening the role of schools as centers of communities. For example, the Department's Promise Neighborhoods program encourages robust development and implementation of a continuum of effective community services, strong family supports, and comprehensive education reforms to improve education and life outcomes for children and youth in high-need communities. In addition, in May, 2010, the Department proposed doubling funding (through the ESEA reauthorization) for activities promoting family engagement from 1 percent to 2 percent of Title I dollars and proposes to ask LEAs to use these funds in a more systemic and comprehensive way.

Based on the many informative comments we received and our strong belief in the need to promote safe and supportive school environments and enhanced family and community engagement in students' learning, we are adding a priority that would support projects designed to improve school environment and safety, and projects designed to improve parent and family and community engagement. We are establishing a separate priority rather than modifying each individual priority to ensure that there is appropriate focus on these important issues. We also believe this priority will be broad enough for many of our programs to use within the parameters of their authorizing program statutes and regulations and, thereby, will support many of the types of strategies and supports mentioned by the commenters. Programs also will be able to use this priority in conjunction with one or more of the other priorities established in this notice.

Changes: The Department has added a new priority, Priority 5—School Engagement, School Environment, and School Safety and Family and Community Engagement, that reads as follows:

“Projects that are designed to improve student outcomes through one or more of the following priority areas:

(a) Improving school engagement, which may include increasing the quality of relationships between and among administrators, teachers, families, and students and increasing participation in school-related activities.

(b) Improving the school environment, which may include improving the school setting related to student learning, safety, and health.

(c) Improving school safety, which may include decreasing the incidence of harassment, bullying, violence, and substance use.

(d) Improving parent and family engagement (as defined in this notice).

(e) Improving community engagement (as defined in this notice) by supporting partnerships between local educational agencies, school staff, and one or more of the following:

(i) Faith- or community-based organizations.

(ii) Institutions of higher education.

(iii) Minority-serving institutions or historically black colleges and universities.

(iv) Business or industry.

(v) Other Federal, State, or local government entities.”

We have also added to this notice definitions for community engagement and parent and family engagement that read as follows:

“Community engagement means the systematic inclusion of community organizations as partners with local educational agencies and school staff. These organizations may include faith- and community-based organizations, institutions of higher education (including minority-serving institutions and historically black colleges and universities), business and industry, or other Federal, State, and local government entities.”

“Parent and family engagement means the systematic inclusion of parents and families, working in partnership with local educational agencies and school staff, in their child's education, which may include strengthening the ability of (a) parents and families to support their child's education and (b) school staff to work with parents and families.”

New Priority 6—Technology

Comment: We received a number of comments requesting that the Department add a priority that recognizes the role that educational technology can play in increasing student achievement, implementing school reforms, and improving teacher effectiveness. Commenters also suggested that we include language focused on education technology in the individual priorities. Several commenters stated that in its FY 2011 budget request, the Department emphasized the importance of integrating technology into instruction and using technology to drive improvements in teaching and learning. Commenters also noted that the Department's Blueprint for the ESEA reauthorization highlighted the necessity of supporting projects that leverage technological tools, including digital information and communications technologies. These commenters stated that these priorities should similarly reflect a significant level of support for the use of technology in education.

Commenters recommended that the Department support projects that are designed to use technology to raise student achievement, to develop student skills in the effective use of technology, and to use technology to support individualized instruction. One commenter specifically noted the role that technology will play in the assessments to be developed by State consortia under the Race to the Top Assessment program. Commenters also encouraged the Department to support projects that use technology to provide professional development to teachers.

Several commenters recommended that a priority on education technology focus on several areas, including transitioning from print to digital instructional materials (including open educational resources); accelerating the adoption of high-quality formative and summative assessments; and increasing the availability of online and blended opportunities for students, especially where students' opportunities are limited by geography or personal circumstance. Other areas the commenters suggested should be included in such a priority are the fostering of 21st century, personalized learning environments centered on improving student achievement in the core subject areas and providing professional development to educators and school leaders to assist them in effectively selecting, using, and evaluating the effectiveness of technology tools and information systems.

Discussion: We agree with the commenters that technology can play a vital role in improving student achievement, increasing students' access to instructional content, and increasing teacher and school leader effectiveness through enhanced professional development. As several commenters noted, we have recognized the critical role of technology in education in our Blueprint for the ESEA reauthorization and in our FY 2011 budget request. We agree with those commenters that these final priorities should reflect a similar emphasis on educational technology.

Rather than modify each individual priority, we have decided to establish a new priority focused solely on educational technology. Under this new priority, the Department would support projects that are designed to improve student achievement or teacher effectiveness through the use of high-quality digital tools and materials. We believe this priority will be broad enough for many of our programs to use within the parameters of their authorizing program statute and regulations and, thereby, will support many of the types of innovative uses of technology mentioned by the commenters, while ensuring that the development and implementation of these new approaches are based on data demonstrating the effectiveness of the technology in improving student achievement or teacher effectiveness. Programs will be able to use this priority in conjunction with one or more of the other priorities established in this notice.

Changes: We have established a new priority, Priority 6—Technology, that reads as follows: “Projects that are designed to improve student achievement or teacher effectiveness through the use of high-quality digital tools or materials, which may include preparing teachers to use the technology to improve instruction, as well as developing, implementing, or evaluating digital tools or materials.”

New Priority 7—Core Reforms

Comment: A number of commenters strongly supported the adoption of college- and career-ready standards and stated that implementation of such standards can serve as a catalyst for education reform. Other commenters noted the importance of effectively evaluating teachers and principals, and implementing statewide longitudinal data systems that provide educators and families the data they need to increase student achievement. One commenter stated that statewide longitudinal data systems are the foundation for successfully implementing other education reforms. Several commenters supported the Department's efforts to outline a comprehensive reform agenda and to better allocate limited Federal resources to areas of significant need. One commenter recommended that the Department consider ways in which it could encourage applicants for discretionary grant programs to continue their comprehensive reform efforts.

Discussion: We agree with the commenters that implementing college- and career-ready standards and increasing data-based decision making are key drivers of comprehensive reform. Given the critical role that teachers and principals play in improving student learning, we believe that teacher and principal evaluation systems are another key driver of reform. We appreciate the commenters' support for the Department's comprehensive reform efforts and agree that the Department should support and encourage States to continue implementing comprehensive reforms that result in improved student achievement, narrowed achievement gaps, and increased high school graduation and college enrollment rates. Therefore, we are adding a new Priority 7 to support projects in States, LEAs, or schools where core reforms are being implemented. This priority focuses on projects conducted in a State that has adopted K-12 academic standards that build toward college- and career-readiness; in a State that has implemented a statewide longitudinal data system; and is in an LEA or school that provides student growth (as defined in this notice) data to teachers.

Changes: The Department has added a new priority, Priority 7—Core Reforms, that reads as follows:

“Projects conducted in States, local educational agencies, or schools where core reforms are being implemented. Such a project is one that is conducted—

(a) In a State that has adopted K-12 State academic standards in English language arts and mathematics that build towards college- and career-readiness;

(b) In a State that has implemented a statewide longitudinal data system that meets all the requirements of the America COMPETES Act; and

(c) In a local educational agency or school in which teachers receive student growth (as defined in this notice) data on their current students and the students they taught in the previous year and these data are provided, at a minimum, to teachers of reading/language arts and mathematics in grades in which the State administers assessments in those subjects.”

New Priority 8 (Proposed Priority 5)—Increasing Postsecondary Success

Comment: Two commenters stated that one of the biggest challenges faced by those who are unemployed is that a majority of the fastest-growing industries require postsecondary education. The commenters noted that rigorous career and technical education programs play a significant role in preparing individuals with the skills they need to succeed in today's workforce. Another commenter recommended revising the language in this priority to emphasize the importance of ensuring that postsecondary education has value in the labor market. The commenter recommended that the language in the priority be changed to focus not only on students who are in the education pipeline, but also young adults who need to receive additional training to be successfully employed. One commenter recommended that the priority specifically reference current military service members and veterans who have served in the military since the September 11, 2001 terrorist attacks.

Other commenters stated that while academic standards are important, the Department should consider ways to encourage a broader definition of what it means to be successful in a global economy. The commenters noted that successful schools consider both “the context of learning and the full range of human development including civic standards and measures, learning and innovation skills, and other applied workplace skills.” One commenter urged that we support the implementation of standards “in a broad range of subjects and competencies that address the needs of the whole student and prepare students to succeed in a modern, globally interdependent society.”

Discussion: We agree that new Priority 8 (proposed Priority 5) should include a focus on completing college or other postsecondary training that leads to successful employment. While we agree that the labor market values the education and training provided by postsecondary institutions, we do not believe that it is necessary to include this specific language in the priority. Therefore, we decline to make the change requested by the commenter.

With regard to the recommendation that the language in the priority be changed to focus not only on students who are in the education pipeline, but also young adults who need to receive additional training to be successfully employed, we note that paragraph (d) focuses on individuals who return to the educational system. However, we agree that the language in paragraph (d) could be strengthened to focus on college enrollment and success, similar to the focus in paragraphs (a), (b), and (c) for high-risk students, and we are adding language accordingly.

The Department agrees that it is important to increase the number of current service members and post-9/11 veterans who enroll in, persist in, and complete college or other postsecondary training. To ensure that this priority is as broad and inclusive as possible, and thereby could be used by multiple programs across the Department, we decline to reference in the priority specific groups within the military services. However, in order to reflect the importance of providing services to current service members and post-9/11 veterans, and as discussed later in this notice, we are revising the definition of military-connected student (used in new Priority 12 (proposed Priority 9)) to include a reference to current service members and veterans.

With regard to the commenters who recommended that this priority focus on the “whole student” and the knowledge and skills that are needed to compete successfully in the global economy, we believe that a high-quality education includes developing students who are well-rounded and well-prepared for the challenges and responsibilities they will confront throughout their lives. Preparation for a lifetime of learning experiences is necessary for effective participation in democratic society. We believe that these priorities, as written, encapsulate this idea; however, to clarify our commitment to the development of the whole student, we are adding a new paragraph (f) to this priority.

Changes: We have revised paragraph (d) of this priority, which reads as follows: Increasing the number of individuals who return to the educational system to obtain a high school diploma; to enroll in college or other postsecondary education or training; to obtain needed basic skills leading to success in college or other postsecondary education or the workforce; or to enter, persist in, and complete college or rigorous postsecondary career and technical training leading to a postsecondary degree, credential, or certificate.”

We also have added new paragraph (f) to this priority, which reads as follows: “Increasing the number and proportion of postsecondary students who complete college or other postsecondary education and training and who are demonstrably prepared for successful employment, active participation in civic life, and lifelong learning.”

Comment: One commenter expressed support for this priority's goal of preparing high-need students for postsecondary education and future careers. The commenter recommended using the definition of “postsecondary education” that is used in Department program statutes, and focusing the priority on a broad range of postsecondary options in order to convey that “college” is not limited to four-year baccalaureate degree programs. Similarly, one commenter recommended changing “increasing the number of students who are academically prepared” to “increasing the number of students who are prepared” in paragraph (a). Another commenter recommended that the priority refer to existing national programs and examinations, such as Advanced Placement, ACT, and International Baccalaureate courses and exams, as examples of ways to adequately prepare students for college-level coursework without the need for remediation.

Discussion: New Priority 8 (proposed Priority 5) includes specific references to training leading to a “degree, credential, or certificate,” in order to make clear that the priority focuses on a broad range of postsecondary options and is not limited to four-year degree programs. Therefore, we believe it is unnecessary to add a definition of “postsecondary education” in this notice or to change the language in paragraph (a) in the manner suggested by the commenter. However, in order to make clear in paragraphs (c) and (d) that the outcome is a postsecondary degree, credential, or certificate, we are adding “postsecondary” before “degree, credential, or certificate.” We decline to include in the priority the specific courses and exams recommended by the commenter because the priority focuses on the outcome of increasing postsecondary success rather than on the specific strategies for attaining that outcome. In fact, rather than focusing on completing specific courses that do not necessarily lead to a postsecondary degree, credential, or certificate, we believe the focus in paragraph (c) regarding career and technical education should be on programs of study (as defined in this notice). We are changing the language in paragraph (c) accordingly.

Changes: In paragraphs (c) and (d), we have added “postsecondary” before “degree.” We also have removed “secondary or postsecondary career and technical courses or” in paragraph (c).

Comment: Two commenters recommended that we revise this priority to include a focus on increasing the rates at which high-need students enroll in and complete doctoral or other terminal degree (i.e., the highest degree in a particular field of study) programs.

Discussion: This priority already focuses on increasing the number and proportion of high-need students who enroll in and complete graduate programs. This would encompass students enrolling in and completing doctoral or other terminal degree programs. We believe that adding specific references to doctoral or terminal degrees would unduly narrow the priority such that it could not be used across many of the Department's programs. We decline, therefore, to make the change recommended by the commenters.

Changes: None.

Comment: One commenter recommended that the priority include a specific focus on providing comprehensive guidance and advice to high-need students on applying for college and financial aid.

Discussion: As noted in a response to an earlier comment, this priority focuses on the outcome of increasing postsecondary success rather than the specific strategies for attaining that outcome. Therefore, we decline to make the change recommended by the commenter.

Changes: None.

Comment: One commenter recommended that this priority include a focus on recruiting and retaining high-quality educators to teach students in rural areas and high-need students.

Discussion: Paragraph (a) of the priority supports projects that increase the number and proportion of high-need students who are academically prepared for and enroll in college or other postsecondary education and training. This priority would not preclude an applicant from proposing a project that supports retaining high-quality educators in rural areas, so long as the project supports the goals of this priority and complies with the program statute and regulations. For this reason, the change recommended by the commenter is unnecessary.

Changes: None.

Comment: One commenter, while generally supportive of the priority, recommended that schools use open educational resources (OER) to improve and ensure postsecondary success. Another commenter recommended that products developed with discretionary grant funds be developed consistent with the requirements for OER.

Discussion: New Priority 16 (proposed Priority 13) (Improving Productivity) specifically refers to the use of OER to improve results and strategies. If the Department decides to focus a program competition on postsecondary success and the use of OER to increase productivity, and provided such a focus is authorized by the program statute and regulations, we will be able to include both priorities in the notice inviting applications. Therefore, we decline to make the change requested by the commenter.

Changes: None.

Comment: None.

Discussion: During the Department's review of this priority, we determined that it would be clearer to refer to the “number and proportion of high-need students” rather than to “rates” in paragraphs (a), (b), (c), and (e). We also are correcting an error in paragraph (d)—“career or technical training” in paragraph (d) should be “career and technical training. Therefore, we are making these changes in the priority.

Changes: We have revised new Priority 8 to read as follows:

Priority 8—Increasing Postsecondary Success

Projects that are designed to address one or more of the following priority areas:

(a) Increasing the number and proportion of high-need students (as defined in this notice) who are academically prepared for and enroll in college or other postsecondary education and training.

(b) Increasing the number and proportion of high-need students (as defined in this notice) who persist in and complete college or other postsecondary education and training.

(c) Increasing the number and proportion of high-need students (as defined in this notice) who enroll in and complete high-quality programs of study (as defined in this notice) designed to lead to a postsecondary degree, credential, or certificate.

(d) Increasing the number and proportion of individuals who return to the educational system to obtain a high school diploma; to enroll in college or other postsecondary education or training; to obtain needed basic skills leading to success in college or other postsecondary education or the workforce; or to enter, persist in, and complete college or rigorous postsecondary career and technical training leading to a postsecondary degree, credential, or certificate.

(e) Increasing the number and proportion of high-need students (as defined in this notice) who enroll in and complete graduate programs.

(f) Increasing the number and proportion of postsecondary students who complete college or other postsecondary education and training and who are demonstrably prepared for successful employment, active participation in civic life, and lifelong learning.

New Priority 9—Improving Achievement and High School Graduation Rates (Proposed Priority 6—Improving Achievement and High School Graduation Rates of Rural and High-Need Students)

Comment: One commenter expressed concern that the needs of urban students were not sufficiently addressed in proposed priority 6 and recommended that the Department revise it to focus on both urban and rural students.

Discussion: The intent of this priority is to focus on improving achievement and high school graduation rates and college enrollment rates of high-need students, in both urban and rural areas. We recognize that the title of the proposed priority may have incorrectly implied that this priority was exclusively focused on students in rural areas. Therefore, we are removing the reference to rural and high-need students from the title of the priority.

Changes: We have removed “of Rural and High-Need Students” from the title of the priority. Based on this change, the title of new Priority 9 now reads: “Improving Achievement and High School Graduation Rates.”

Comment: One commenter recommended that this priority include a focus on students with disabilities, including students with disabilities who are also gifted. Another commenter recommended adding a focus on English learners, stating that these students need extra support to be successful because they must learn English at the same time they are trying to meet challenging student achievement standards.

Discussion: Although students with disabilities and English learners are included in the definition of high-need children and high-need students as examples of students who may be at risk of educational failure, we understand that there may be programs for which it would be appropriate to focus particularly on improving achievement and graduation rates of students with disabilities or English learners, and not a broader group of high-need students. Therefore, within this priority, we are adding a separate priority area for students with disabilities and a separate priority area for English learners.

Changes: We have added a new paragraph (b) to the priority, which reads as follows: “Accelerating learning and helping to improve high school graduation rates (as defined in this notice) and college enrollment rates for students with disabilities.” We also have added a new paragraph (c), which reads as follows: “Accelerating learning and helping to improve high school graduation rates (as defined in this notice) and college enrollment rates for English learners.” Subsequent paragraphs have been renumbered.

Comment: A number of commenters expressed support for this priority and recommended specific strategies to improve student achievement and graduation rates. One commenter suggested that the priority focus on physical education programs because students in schools with high poverty rates often do not have access to high-quality physical education programs. Several commenters recommended focusing on specific dropout prevention programs. One commenter requested that the priority focus on programs that support collaboration between education and juvenile and family justice systems to support students in juvenile detention centers and students in foster care. One commenter stated that summer learning programs play a critical role in accelerating learning for students in rural and high-poverty areas and should be included in this priority. Two commenters recommended adding language to provide incentives for schools and districts to implement initiatives that help high-need students stay in school, such as programs that provide multiple or alternative pathways to graduation. One commenter recommended that the Department revise the priority to support the development of data collection systems to help school districts report data, such as graduation rates, more effectively. Another commenter recommended adding a focus on systems that identify students at risk of dropping out of school.

Discussion: This priority focuses on outcomes—that is, improving student achievement and high school graduation rates and college enrollment rates for students in rural LEAs, students with disabilities, English learners, other high-need students, and students in high-poverty schools—rather than on the specific strategies for attaining those outcomes. Many of the strategies proposed by the commenters may accelerate learning and improve graduation and college enrollment rates. However, we decline to reference specific strategies in this priority because it would limit the types of programs to which this priority could be applied. We do agree that this priority should include a focus on projects that meet the needs of all students, while ensuring that the specific needs of high-need students participating in such a project are met. Therefore, we are adding a new paragraph (f) to focus on projects that accelerate learning and improve high school graduation rates and college enrollment rates for all students in an inclusive manner while ensuring that the specific needs of high-need students are addressed.

Changes: We have added a new paragraph (f) that reads as follows: “Accelerating learning and helping to improve high school graduation rates (as defined in this notice) and college enrollment rates for all students in an inclusive manner that ensures that the specific needs of high-need students (as defined in this notice) participating in the project are addressed.”

Comment: Two commenters recommended revising the priority to specifically support disadvantaged populations of gifted students.

Discussion: This priority already focuses on the needs of gifted students who are high-need students at risk of educational failure (paragraph (d)), as well as students who attend high-poverty schools (paragraph (e)), which may include gifted students. Therefore, we decline to make the change recommended by the commenters.

Changes: None.

Comment: One commenter recommended adding a priority to focus on schools located in areas of concentrated poverty and the students living in those areas.

Discussion: The groups of students and schools already included in this priority could encompass schools located in areas of concentrated poverty and students living in those areas. Because we intend to use this priority across a number of Department programs, we do not want to unnecessarily limit its scope by limiting its application to the specific schools and students suggested by the commenter. Therefore, we decline to make the change suggested by the commenters.

Changes: None.

New Priority 10 (Proposed Priority 7)—Promoting Science, Technology, Engineering, and Mathematics (STEM) Education

Comment: One commenter recommended that the Department support projects that include a focus on providing information to students about educational and career pathways into STEM fields. According to the commenter, students need better information about educational programs that can lead to careers in STEM fields.

Discussion: We agree that providing students with more information about STEM careers and the pathways to those careers would help increase students' level of interest in STEM coursework and careers. We do not think it is necessary to reference this type of activity in the text of the priority, however, because the priority focuses on the outcome of increased access to STEM coursework rather than specific strategies for attaining that outcome. Grant applicants could propose increasing the amount of information available to students about educational and career opportunities in the STEM fields as a strategy for achieving the goal of increased access to STEM coursework.

Changes: None.

Comment: One commenter recommended that we revise the priority to specifically support providing high school students with access to rigorous and engaging courses of study in STEM. Two commenters recommended that we revise paragraph (a) of the priority to specifically identify elementary, middle, and high school students, and another commenter recommended that we revise the priority to ensure that it supports early learning in STEM. These commenters stated that if students have access to STEM content early in their education, they are more likely to pursue STEM opportunities at the postsecondary level and STEM careers. Another commenter recommended that the Department revise the priority to support projects that provide gifted and talented students with access to rigorous and engaging STEM courses as soon as those students are academically ready for such coursework. The commenter stated that students should be permitted to take STEM-related coursework as early as possible in their education in order to ensure that the Nation has a sufficient number of STEM professionals in the future. Another commenter recommended that we revise the priority to reference underrepresented and high-need students.

Discussion: Our intent in paragraph (a) of this priority is to support access to rigorous and engaging courses of study in STEM for all students, including students in elementary, middle, and high schools; gifted and talented students; and high-need students. We agree that providing these students with access to STEM-related coursework is essential to increasing the number of students prepared for postsecondary or graduate study and careers in STEM fields. However, the Department plans to use these priorities across a number of its discretionary grant programs, and some of those programs may not support a focus on particular groups of students. Accordingly, we decline to narrow the scope of paragraph (a), as suggested by the commenters. The priority does not preclude an applicant from focusing its project on increasing access to STEM coursework for specific groups of students, provided such a focus is authorized by the program statute and regulations.

In reviewing these comments, however, we noted that our use of the term “courses of study” in paragraph (a) of the priority could be read to refer to STEM courses that are offered only after elementary school. Given that this is not our intention and to eliminate any confusion, we have revised the priority to refer to “coursework” rather than to “courses of study” to clarify that paragraph (a) refers to all students regardless of their level of education.

Changes: We have revised paragraph (a) of the priority to delete the reference to “courses of study” and replaced it with “coursework in STEM.” Specifically, paragraph (a) reads: “Providing students with increased access to rigorous and engaging coursework in STEM.”

Comment: Two commenters suggested that the Department revise paragraph (c) of the priority, which provides for increasing the opportunities for high-quality preparation of, or professional development for, teachers of STEM subjects, to refer to a broader group of education professionals who could benefit from professional development in this area. The commenters suggested that we use the term “educator” rather than “teacher.”

Discussion: We agree that it is important to support all types of educators who work in STEM fields. Accordingly, we have revised the priority to include a reference to other educators in the STEM fields.

Changes: We have added “or other educators” following “teachers” in paragraph (c). Paragraph (c) of the priority reads as follows: “Increasing the opportunities for high-quality preparation of, or professional development for, teachers or other educators of STEM subjects.”

Comment: One commenter recommended that we add a priority area for increasing opportunities for collaboration related to STEM-focused initiatives, projects, and programs among military and civilian research centers, institutions of higher education, LEAs, non-profit organizations, museums, and other partners engaged in STEM fields.

Discussion: As stated in the NPP, we agree that such collaborations can be important and effective strategies for increasing the number of students prepared for postsecondary study in STEM and for assisting teachers in providing effective STEM instruction. We decline to make the suggested change, however, because the priority emphasizes the outcomes to be achieved rather than specific strategies for attaining those outcomes. We note that the priority does not preclude an applicant from proposing a project that focuses on these types of collaborations. Collaborations with STEM organizations could be proposed as a strategy for achieving the outcomes called for in the priority.

Changes: None.

Comment: Two commenters suggested that the Department revise the priority to include a specific reference to career and technical education courses. The commenters stated that many career and technical education programs include STEM-focused instruction and can be used to help students acquire knowledge and skills in a variety of STEM fields, including preparing students for postsecondary studies and careers in STEM fields. Another commenter recommended that we revise the priority to support career and technical education programs that encourage women to go into high-earning careers; the commenter stated that many women are directed to career and technical education professions that have been traditionally occupied by women, such as cosmetology and childcare, which also tend to be lower-paying professions.

Discussion: We agree that career and technical education courses can be instrumental in preparing students for postsecondary study and careers in STEM fields. However, we do not believe it is necessary to specifically mention career and technical education courses in the priority. As indicated earlier in this notice, our intent is to use this priority across a number of different Department programs, some of which may not permit a focus on career and technical education courses, and we do not wish to unnecessarily limit the scope of this priority and risk precluding applicants in some Department programs from addressing it.

We also agree that the underrepresentation of women and girls in certain STEM fields is a significant problem. Paragraph (b) of the priority was designed to address that concern by encouraging a focus on increasing the participation of students from groups traditionally underrepresented in STEM careers, including women. However, upon further reflection, we believe that, rather than focusing on increasing the number of students from groups traditionally underrepresented in STEM careers only in paragraph (b) (with regard to postsecondary and graduate study and careers in STEM), there should be a similar emphasis with regard to increasing access to rigorous and engaging coursework in STEM (paragraph (a)) and with regard to increasing opportunities for high-quality preparation of, or professional development for, teachers or other educators of STEM subjects (paragraph (c)). Therefore, we are adding two new paragraphs that focus on individuals from groups traditionally underrepresented in STEM careers, and removing the reference to such individuals in paragraph (b). New paragraph (d) focuses on increasing the number of students from groups traditionally underrepresented in STEM who are provided with access to rigorous and engaging coursework in STEM or who are prepared for postsecondary or graduate study and careers in STEM; and new paragraph (e) focuses on increasing the number of individuals from groups traditionally underrepresented in STEM who are teachers or educators of STEM subjects and who have increased opportunities for high-quality preparation or professional development.

Changes: We have added a new paragraph (d) to read as follows: “Increasing the number of individuals from groups traditionally underrepresented in STEM, including minorities, individuals with disabilities, and women, who are provided with access to rigorous and engaging coursework in STEM or who are prepared for postsecondary or graduate study and careers in STEM.”

We have added a new paragraph (e) to read as follows: “Increasing the number of individuals from groups traditionally underrepresented in STEM, including minorities, individuals with disabilities, and women, who are teachers or educators of STEM subjects and have increased opportunities for high-quality preparation or professional development.”

We have removed the following from paragraph (b): “With a specific focus on an increase in the number and proportion of students so prepared who are from groups traditionally underrepresented in STEM careers, including minorities, individuals with disabilities, and women.”

Comment: While several commenters supported this priority and noted the importance of ensuring that students have access to STEM coursework well before entering college, one commenter recommended that the Department revise the priority to focus on both the preparation for and the completion of graduate degrees in STEM fields.

Discussion: The priority supports both the preparation and the completion of postsecondary or graduate study in STEM. Specifically, paragraph (b) of the priority emphasizes increasing the number of students prepared for postsecondary and graduate study and careers in STEM. Thus, the language supporting increasing the number of students prepared for careers in STEM already supports projects that are designed to increase the number of students completing their postgraduate studies in STEM.

During the Department's review of the NPP, we determined that the phrase “advanced postsecondary or graduate study” in paragraph (b) was vague and confusing. Therefore, we are removing the word “advanced” from paragraph (b). We also determined that, rather than focusing only on increasing the number of students prepared for postsecondary or graduate study and careers in STEM that the priority should also focus on increasing the proportion of those students. We are, therefore, making these changes in paragraph (b).

Changes: In paragraph (b), we have removed “advanced” before “postsecondary”; and added “and proportion” before “of students prepared for”. With this change and the changes noted in response to an earlier comment, paragraph (b) now reads: “Increasing the number and proportion of students prepared for postsecondary or graduate study and careers in STEM.”

Comment: One commenter applauded the Department's focus on issues affecting underrepresented students in STEM fields. The commenter suggested, however, that the Department narrow its focus to address specific achievement gaps between males and females in general, and between minority males and white males, in particular. The commenter stated that minority males in particular face access, academic success, and persistence difficulties when they enter the STEM fields.

Discussion: We appreciate the commenter's support and recognize the seriousness of these achievement gaps. Our intent under paragraph (b) of the priority was to address those gaps by supporting projects that are designed to increase the representation of all students from groups traditionally underrepresented in STEM careers, including minorities, individuals with disabilities, and women. As noted in response to an earlier comment, we are removing the reference to increasing the number of students from groups traditionally underrepresented in STEM careers who are prepared for postsecondary or graduate study and careers in STEM in paragraph (b) and adding it in new paragraph (d). We think the priority, as we have revised it, addresses these gaps and do not believe it is necessary to identify achievement gaps involving specific populations in order to provide support for strategies that can serve to narrow these achievement gaps.

Changes: None.

Comment: Two commenters recommended that we revise the priority to include support for increasing the actual number of STEM teachers in addition to increasing the opportunities for the preparation of, or providing professional development for, teachers of STEM subjects. The commenters stated that STEM subjects are difficult to staff with qualified teachers and, therefore, there should be an emphasis on increasing the actual number of teachers in STEM fields.

Discussion: We recognize that some LEAs struggle to recruit and retain a sufficient number of teachers with the knowledge and skills required to teach STEM content. Paragraph (c) of the priority is designed to address that problem because it focuses on increasing the support provided to teachers of STEM subjects so that they are adequately prepared to provide effective instruction to students. We believe that increasing these types of opportunities for STEM teachers and other educators will lead to increases in the actual numbers of teachers and other educators prepared to teach and improve student achievement in STEM subjects.

We do not believe it is necessary, therefore, to revise the priority as suggested by the commenter.

Changes: None.

Comment: One commenter recommended that the Department revise paragraph (c) of the priority to specify that the opportunities for preparation of or professional development for teachers of STEM subjects be designed to equip teachers with the knowledge, skills, and abilities to address the diverse learning and support service needs of high-need students in teachers' classrooms.

Discussion: We agree that it is important that STEM teachers have the knowledge and skills needed to address the learning needs of high-need students, as well as the needs of all other students. However, as indicated earlier, because we plan to use these priorities across a number of our discretionary grant programs, it would not be appropriate to focus on a particular group of students or a particular type of activity. As written, the priority does not preclude an applicant from focusing its project on the type of professional development or teacher preparation mentioned by the commenter provided that this focus is authorized under the applicable program statute and regulations.

Changes: None.

Comment: One commenter suggested that the priority include a focus on improving online access to STEM courses. The commenter noted that providing online courses in STEM and improving access to those courses could provide a solution to the shortage of STEM teachers.

Discussion: We agree that the use of online STEM courses could be effective in increasing students' access to this coursework and that, at least in part the availability of these courses could address the challenges that certain LEAs face in recruiting and retaining STEM teachers. However, we do not believe it is necessary to include a separate priority area supporting online STEM courses since our intent under this priority is to support all types of strategies that may be effective in increasing student access to STEM instructional content.

Changes: None.

Comment: One commenter recommended that the Department revise the priority to promote increased access to the full range of tools and processes employed by STEM educators, including access to experts in STEM via online and distance learning coursework.

Discussion: We agree with the commenter that current and prospective STEM educators need a full range of resources and supports as they prepare for teaching STEM subjects or to enhance their teaching skills. We think this objective is addressed in the language in paragraph (c) and new paragraph (e) of the priority regarding increasing the opportunities for high-quality preparation of, or professional development for, teachers or other educators of STEM subjects.

Changes: None.

New Priority 11 (Proposed Priority 8)—Promoting Diversity

Comment: Multiple commenters expressed support for this priority, noting the importance of diversity generally and, more specifically, the educational benefits that inure to students in diverse learning environments. Several commenters recommended that the Department expand the definition of “diversity” or mention additional groups. For example, a number of these commenters suggested adding lesbian, gay, bisexual, and transgender students as examples of a diverse student body. Several commenters recommended that the Department include gender as an additional example of students within a diverse student body. One commenter recommended that the Department include gifted students as part of the priority. Another commenter recommended that the priority include students of different socioeconomic status. Two commenters recommended that the Department revise the priority to include students with disabilities and English learners.

Several commenters recommended that the Department expand the priority to include support for diversity among teachers and other school staff. One commenter recommended that the Department revise the priority to encourage diversity in early learning providers.

One commenter recommended that the Department revise the priority to require charter schools to promote student diversity. Another commenter suggested that the Department revise the priority to promote diversity in the academic and societal preparation of our youth. One commenter recommended that the Department revise the priority to provide examples of programs that would be supported under this priority.

Discussion: The Department agrees that school, teacher, and school staff diversity is important. The intent of this priority, however, is to focus on the racial and ethnic diversity of students in order to promote cross-racial understanding, break down racial stereotypes, and prepare students for an increasingly diverse workforce and society. Therefore, we decline to expand the definition of “diversity” or mention the additional groups that commenters recommended. The priority does not preclude programs that focus on teacher diversity, so long as they also focus on student diversity.

We intend to use this priority across a number of different Department programs. Therefore, we do not wish to unnecessarily narrow the focus of the priority or limit its applicability by adding specific age ranges or referring to specific types of schools or programs in the priority.

Changes: None.

New Priority 12 (Proposed Priority 9)—Support for Military Families

Comment: Many commenters expressed support for this priority. These commenters noted that the families of men and women in the military face unique challenges requiring specific types of support to ensure successful educational outcomes. Two commenters recommended including in the priority examples of strategies to support students whose parents are in the military. Many commenters noted that an effective strategy is creating a year-round program for military families. Another commenter suggested expanding the priority to include supports for students inside and outside of the classroom that are school- and community-based (e.g., school health and counseling clinics, family resource centers, tutoring programs).

One commenter requested that the Department clarify whether the term military-connected student includes a student with at least one parent who is in the military, regardless of whether the student resides with the parent. Another commenter commended the Department for including a priority on military-connected students and recommended that the broadest definition of “pre-kindergarten” be applied to include children from birth through kindergarten.

Discussion: We recognize that military deployments place an enormous strain on military families and their children. However, we decline to make the changes recommended by the commenters because we do not want to unnecessarily limit the scope of this priority given our intent to use this priority across different Department programs. We note that this priority would not preclude an applicant from proposing the types of projects suggested by the commenters, provided that the proposal is authorized by the program statute and regulations.

With respect to the definition of military-connected student, we are making a number of changes based on the comments we received. We agree with the commenter that the definition of military-connected student should apply to children from birth through grade 12 and are adding language to refer to a child participating in an early learning program. We are also replacing “pre-kindergarten” with “preschool” in order to be more inclusive of a broader group of children; “pre-kindergarten” generally refers to children between four and six years of age, while “preschool” generally refers to children between infancy and school age. In response to comments regarding the unique challenges faced by the families of men and women in the military, we are adding the spouse of an active-duty service member to the definition of military-connected student. Finally, as described earlier in this notice, we agree with commenters that it is important to increase the number of current service members and post-9/11 veterans, who enroll in, persist in, and complete college or other postsecondary training and, therefore, are revising the definition of military-connected students to add this reference.

With regard to the commenter who asked for clarification regarding whether a student must reside with the parent who is in the military to be considered a “military-connected student,” the definition of military-connected student does not require a student to reside with the parent who is on active duty in the military to be considered a “military-connected student.”

Changes: We have revised the definition of military-connected student to read as follows: Military-connected student means (a) a child participating in an early learning program, a student in pre-school through grade 12, or a student enrolled in postsecondary education or training who has a parent or guardian on active duty in the uniformed services (as defined by 37 U.S.C. 101, in the Army, Navy, Air Force, Marine Corps, Coast Guard, National Guard, or the reserve component of any of the aforementioned services) or (b) a student who is a veteran of the uniformed services, who is on active duty, or who is the spouse of an active-duty service member.

New Priority 13 (Proposed Priority 10)—Enabling More Data-Based Decision-Making

Comment: While many commenters supported this priority, several commenters requested that the priority include the specific types of data to be collected and disaggregated. One commenter suggested collecting health outcomes data in addition to academic data. Many commenters stated that in order to make decisions about the best strategies for improving learning environments, demographic information about sexual orientation, gender identity, and student diversity should be collected. One commenter recommended collecting data on highly mobile students and military-connected students. Another commenter recommended collecting data on gifted and talented students. One commenter stated that the Department should provide a competitive preference for projects that collect and disaggregate data that can be used to address achievement gaps across student subgroups. Another commenter recommended adding language to the priority to highlight the need for high-quality, timely, and disaggregated data. Several commenters stated that having additional data on school climate issues, such as bullying, violence, and substance abuse, would help educators identify strategies to improve the school climate for all students.

Discussion: Our intent is to use this priority across a number of different Department programs to encourage applicants to think strategically and innovatively about what data are available to a specific project and how best to use those data to improve student outcomes. We decline to make the changes recommended by the commenters because doing so would unnecessarily limit the nature and scope of the priority.

Changes: None.

Comment: One commenter stated that the priority should emphasize the importance of protecting the privacy of student and educator data and recommended revising the definition of privacy requirements to include educator privacy in addition to student privacy.

Discussion: While we agree that the privacy of teachers and principals must be protected, we note that there are no Federal privacy requirements specifically targeted to teachers or principals that would apply to data collected through programs that are funded using these priorities. The definition of privacy requirements in this notice refers to the requirements of the Family Educational Rights and Privacy Act (FERPA), which apply to the disclosure of information from education records of students, the Privacy Act of 1974, and all applicable Federal, State, and local requirements regarding privacy. We expect all grantees to abide by all applicable Federal, State, or local laws and requirements regarding the privacy of educators.

Changes: None.

Comments: We received numerous comments recommending that the priority focus on collecting and analyzing data that can be used to support particular groups of individuals. For example, several commenters emphasized the need for parents to have data that will help them make informed decisions about their child's education. Two commenters encouraged the Department to focus the priority on training for parents on how to effectively access and use data. Another commenter recommended revising the priority to include a focus on child and family outcomes and not just student outcomes.

We also received a number of comments requesting that the priority focus on collecting and analyzing data that will help teachers. Two commenters recommended that the priority support ongoing professional development for teachers on how to use research and data to improve practices and strategies in the classroom. One commenter recommended focusing the priority on projects that train teachers to use student outcomes as a measure of teacher effectiveness. Another commenter suggested that the priority be targeted to support training for school board members, administrators, and other school personnel.

Discussion: We believe that it is essential for parents to be involved with their child's education and to be aware of the data that are being collected and used by schools to make educational decisions. Likewise, the Department agrees that teachers need high-quality and timely data, and training on the use of that data, to help improve their instruction and student outcomes. We purposefully refer to “program participant outcomes” in the priority because we anticipate using this priority across a number of programs in the Department and do not want to limit the focus of this priority to student outcomes when we have a wide range of participants, including parents and teachers, involved in the Department's programs. Furthermore, program participants are generally defined in the authorizing legislation of a program; thus, Department officials who use this priority will define in their notices inviting applications the program participants for their particular grant program. Therefore, we decline to make the changes suggested by the commenters.

Changes: None.

Comments: Several commenters recommended that the priority focus on the various stakeholders that would be involved in the analysis of data to improve outcomes for participants. One commenter recommended that the priority provide support for intermediary organizations, such as research institutions, coalitions, community organizations, constituents, and peers, to collect, interpret, synthesize, and share research knowledge.

Discussion: The Department agrees with the commenters on the importance of promoting collaboration among education agencies, research institutions, community organizations, and other stakeholders. However, we decline to add the recommended language to this priority because we do not want to unnecessarily limit its scope. This priority would not preclude an applicant from proposing this type of collaboration among stakeholders provided that such collaboration was authorized by the program statute and regulations.

Changes: None.

Comments: Several commenters recommended that the Department provide specific performance metrics that would be used to judge the progress of grants awarded under this priority. Another commenter recommended requiring postsecondary grantees that receive awards under this priority to report on common metrics for the completion of postsecondary degrees.

Discussion: We appreciate the need for establishing metrics to measure the success of our programs and specific projects. However, under the Government Performance and Results Act of 1993, each of the Department's discretionary grant programs has already established performance measures for that purpose, which are specific to the goals of and activities supported by those programs. We believe that these program-specific measures will provide an appropriate means of analyzing the success of those programs.

Changes: None.

Comment: Several commenters recommended that the Department use this priority to emphasize the sharing of data between data systems at State agencies, institutions of higher education, and districts. The commenters argued this sharing would help to bring all stakeholders “to the table” to develop integrated data systems for students from pre-kindergarten through college. However, one commenter suggested refocusing the emphasis from State longitudinal data systems for accountability purposes to data for local classroom instructional purposes.

Discussion: We agree with the commenters that the sharing of data between data systems at State agencies, institutions of higher education, and districts is important in order to strengthen accountability and obtain the accurate and reliable data necessary to drive sound educational decisions. We believe that the focus on using data from State longitudinal data systems in paragraph (d) sufficiently emphasizes the importance of sharing data between these data systems and, therefore, decline to add the language recommended by the commenter. However, we agree that it would be appropriate to emphasize the use of data from State longitudinal data systems and are revising paragraph (d) accordingly.

With regard to the recommendation to refocus State longitudinal data systems for accountability purposes to data for instructional purposes, paragraph (d) specifically focuses on State-level data that would appropriately be provided by a State's longitudinal data system. Paragraphs (a) and (b) could be used for programs that focus on using data for instructional purposes.

Changes: We have revised paragraph (d), which reads as follows: “Providing reliable and comprehensive information on the implementation of Department of Education programs, and participant outcomes in these programs, by using data from State longitudinal data systems or by obtaining data from reliable third-party sources.”

Comment: None.

Discussion: During our review of this notice, we identified several errors in this priority. In the introduction, we intended the priority to permit projects to focus on “one or more” of the priority areas (a) through (d), rather than on just one of the priority areas. Therefore, we are changing “one of the following priority areas” to “one or more of the following priority areas.” In paragraph (a), which relates to early learning settings, we should have referred to “child outcomes” instead of “student outcomes,” and are making this change accordingly. Finally, we intended paragraph (b) to provide the option for an applicant to focus on improving instructional practices, policies, and student outcomes in elementary or secondary schools, rather than elementary and secondary schools. Therefore, we are changing the “and” to an “or” in paragraph (b).

Changes: In the introduction to the priority, we have changed “one of the following priority areas” to “one or more of the following priority areas.” In paragraph (a), we have changed “student outcomes” to “child outcomes.” “Elementary and secondary schools” has been changed to “elementary or secondary schools” in paragraph (b).

With these changes and those noted earlier, priority 13 reads as follows:

“Priority 13—Enabling More Data-Based Decision-Making.

Projects that are designed to collect (or obtain), analyze, and use high-quality and timely data, including data on program participant outcomes, in accordance with privacy requirements (as defined in this notice), in one or more of the following priority areas:

(a) Improving instructional practices, policies, and child outcomes in early learning settings.

(b) Improving instructional practices, policies, and student outcomes in elementary or secondary schools.

(c) Improving postsecondary student outcomes relating to enrollment, persistence, and completion and leading to career success.

(d) Providing reliable and comprehensive information on the implementation of Department of Education programs, and participant outcomes in these programs by using data from State longitudinal data systems or by obtaining data from reliable third-party sources.”

Priority 14 (Proposed Priority 11)—Building Evidence of Effectiveness

Comment: Many commenters expressed support for proposed Priority 11 (new Priority 14). One commenter suggested that this priority be used in all grant programs. Several commenters agreed with the Department's position that while experimental and quasi-experimental designs provide the most rigorous evidence of a program's impact and should be used when feasible, such research designs are not always feasible and other designs may be more appropriate for the question being asked. One commenter stated that this flexibility allows for smaller programs and projects to be evaluated even though they may not have the number of participants needed for a random assignment or quasi-experimental research design. One commenter recommended being more explicit in the priority regarding this flexibility. However, one commenter stated that the priority places too narrow an emphasis on analyses from a limited set of highly controlled experimental and quasi-experimental designed studies and as a result would not recognize the work of school-level practitioners and others. The commenter recommended revising proposed Priority 11 (new Priority 14) to include various measures of student achievement and require the use of readily available data in schools and districts. The commenter pointed to programs where a project would not meet the proposed definitions of strong evidence and moderate evidence, and concluded that the proposed priority failed to take into account many district and school practices, which would be counterproductive to the identification of effective techniques, strategies, and methods. The commenter proposed incorporating a new category of “Promising Evidence” that reflects various measures of student achievement and progress more readily available in schools and districts. Another commenter argued that experimental research design is not always conducive to studying complex educational issues or areas of innovation.

Discussion: We appreciate the commenters' support for the proposed priority and for using other rigorous evaluation methods when it is not feasible to use experimental and quasi-experimental research designs. We do not, however, agree with the one commenter's suggestion that we be more explicit in the priority regarding this “flexibility.” Nor do we agree with the commenter that this priority is too narrow and restrictive.

When taken together, new Priorities, 13, 14, and 15 (proposed Priorities 10, 11, and 12, respectively), along with the Department's notice of final priority on scientifically based evaluation methods, published on January 25, 2005 in the Federal Register (70 FR 3586), provide an appropriate, flexible spectrum of approaches for taking into account evidence in competitive grant programs.

New Priority 15 (proposed Priority 12) (Supporting Programs, Practices, or Strategies for which there is Strong or Moderate Evidence of Effectiveness) asks applicants to provide strong or moderate evidence to support their proposals. By contrast, new Priorities 13 and 14 (proposed Priorities 10 and 11, respectively), and the Department's 2005 notice of final priority on scientifically based evaluation methods focus on developing and using evidence during the life of the project and beyond.

New Priority 13 (proposed Priority 10) (Enabling More Data-Based Decision-Making) encourages applicants to collect, analyze, and use data to improve practices, policies, and outcomes, and build evidence into program operations and improvement.

New Priority 14 (proposed Priority 11) (Building Evidence of Effectiveness) encourages applicants to evaluate their programs. Recognizing that it is not always feasible or appropriate to use experimental and quasi-experimental research designs, new Priority 14 encourages the use of methods likely to produce valid and reliable results, and requires, at a minimum, that the outcome of interest be measured multiple times before and after the treatment for project participants and, where feasible, for a comparison group of non-participants.

The Department expects that grants made pursuant to new Priority 14 will use the most rigorous evaluations feasible to provide the strongest available empirical evidence of the impact of programs. The Department considers random assignment and quasi-experimental designs to be the most defensible methods for addressing the question of project effectiveness in that they reliably produce an unbiased estimate of effectiveness and should be the preferred method of determining effectiveness when sufficient numbers of participants are available to support these designs. Random assignment and quasi-experimental designs are considered the most rigorous models for producing evidence of the impact of a program because they are best able to eliminate plausible competing explanations for observed results. The Department's notice of final priority on scientifically based evaluation methods allowed the Department to expand the number of programs and projects Department-wide that are evaluated using experimental and quasi-experimental designs. This priority remains in effect; however, acknowledging that the use of such research designs is not always feasible or appropriate, the Department would use Priority 14 to support studies using other rigorous evaluation methods consistent with the principles of scientific research. Given the spectrum of approaches for taking into account evidence across these priorities, we do not agree with the commenter's recommendation to incorporate a “Promising Evidence” category.

Changes: None.

Comment: One commenter applauded the inclusion of this priority but recommended that the Department reserve the highest percentage of available funds for grants to support programs that are evaluated through rigorous randomized control studies or high-quality comparison group studies.

Discussion: It would not be appropriate to use this notice to specify how the funds that are appropriated for a particular discretionary grant program will be spent; such decisions are made by the Department consistent with the statute and regulations under which a program is authorized.

Changes: None.

Comment: Several commenters asserted that the proposed priority was not specific enough and stated that we also should include references to using data to improve early learning, teacher effectiveness, sexuality education, or summer programs, and to evaluate school-based delinquency, truancy, or bullying prevention programs. Another commenter requested further clarification on outcome measures because the priority did not seem to reference context, process, or formative data as components of an evaluation plan.

Discussion: We purposefully did not include in the priority the level of specificity suggested by the commenters because our intent is to use this priority across a number of different Department programs. By not defining the participants or strategies, we will be able to use this priority in programs across the Department. Each time we do so, we intend to provide further clarification to applicants about the expectations of the evaluation plan, including on data usage and program focus, and further clarification on how we will review those plans.

Changes: None.

Comment: One commenter requested defining the term “scientifically valid research” and recommended using the definition provided in the HEA.

Discussion: We do not believe it is necessary to include a definition of “scientifically valid research” as this term is not used in these priorities. We believe the definitions included in this notice, which are in the What Works Clearinghouse evidence standards (see http://ies.ed.gov/ncee/wwc/references/idocviewer/doc.aspx?docid=19&tocid=1), and the Department's notice of final priority on scientifically based evaluation methods provide sufficient guidance regarding the use of scientifically based research in evaluating whether a project produces meaningful effects on student achievement or teacher performance.

Changes: None.

New Priority 15 (Proposed Priority 12)—Supporting Programs, Practices, or Strategies for Which There Is Strong or Moderate Evidence of Effectiveness

Comment: Many commenters expressed support for this priority and the requirement for strong or moderate evidence of effectiveness. One commenter agreed with the Department's approach to award more points to a project supported by strong evidence when compared to a project supported by moderate evidence. One commenter recommended including guidance in the priority on how applicants should move from research to strategy implementation on a large scale.

Discussion: The Department appreciates this support from commenters. The intent of this priority, as one of several addressing levels of evidence, is to support projects that use moderate or strong levels of evidence. We believe that the field of education needs to use the best available evidence to inform policy and practices and, where strong evidence does not exist, to build evidence over time. This priority will be applied to programs where we believe that implementation of activities or strategies supported by strong and moderate evidence is possible.

Changes: None.

Comment: Two commenters expressed concern that small organizations and nonprofit organizations lack the evaluation resources to conduct studies that meet the threshold established for strong and moderate evidence, thereby resulting in an unfair advantage for larger school districts and organizations.

Discussion: While it is true that small organizations, nonprofit organizations, and school districts may not have the resources to conduct evaluation studies that meet the evidence threshold established in this priority, applicants may be able to satisfy this priority by using third-party studies to demonstrate that the program or strategies they are using are supported by moderate or strong evidence. The practice, strategy, or program does not have to be one that was developed by the district or nonprofit organization.

Changes: None.

Priority 16 (Proposed Priority 13)—Improving Productivity

Comment: Several commenters supported the inclusion of a priority focused on improving productivity and making more efficient use of time, money, and staff. One commenter recognized the importance of efficiency and effectiveness in all aspects of the education system and that improving productivity is an important goal in education. Several commenters suggested particular strategies for improving productivity that applicants should implement in order to meet the requirements of this priority. Two commenters stressed the importance of partnerships and collaboration in improving productivity and recommended including language encouraging partnerships with such entities as institutions of higher education, nonprofit organizations, city and county governments, businesses, parents, educators, and unions representing educators. One commenter suggested including “staff wellness/staff satisfaction” programs as a means of improving productivity. One commenter suggested that this priority be paired with broader values, such as improving teaching and learning conditions. Another commenter stated that summer school provides an ideal opportunity to test innovative practices in staffing, scheduling, and community partnering. Another commenter recommended adding specific performance benchmarks and indicators to the priority statement.

Discussion: We appreciate the support that commenters expressed for this priority. As previously stated in this notice, the intent of these priorities is to apply one or more of the priorities to various programs across the Department in order to encourage applicants to develop innovative strategies to meet the priority within the context of the program. Priorities will only be used for a program where the Department determines the priority to be consistent with the purpose of the program and permitted under the applicable statute and regulations. We choose not to restrict applicants to specific strategies, such as those suggested by the commenters, but encourage grantees to develop innovative practices that will best improve results and increase productivity for their unique educational situation. Each of the Department's discretionary grant programs is required to have specific performance measures and indicators that help determine the impact of the program. Because indicators are program specific, the Department does not believe it is necessary to include benchmarks in this priority.

During the Department's internal review of this notice, we determined that the focus of new Priority 16 could be stated more clearly. Therefore, we are making slight changes to the language in this priority and adding modification of teacher compensation systems as an example of a strategy to make more efficient use of time, money, and staff.

Changes: We have revised new Priority 16 to read as follows:

“Projects that are designed to significantly increase efficiency in the use of time, staff, money, or other resources in order to improve results and increase productivity. Such projects may include innovative and sustainable uses of technology, modification of school schedules and teacher compensation systems, and use of open educational resources (as defined in this notice), or other strategies.”

Definitions

Graduation Rate

Comment: Several commenters expressed concern that the definition of graduation rate would not permit all States and districts to use an extended graduation rate for students who need more than four years to graduate with a regular high school diploma.

Discussion: We believe it is important to be consistent with the definition of graduation rate in 34 CFR 200.19(b)(1), which permits the use of an extended-year adjusted cohort graduation rate if the State in which the proposed project is implemented has been approved by the Secretary pursuant to that regulation to use such a rate.

Changes: None.

High-Need Children and High-Need Students

Comment: The Department received numerous comments recommending that the definition of high-need children and high-need students include references to additional sub-groups of students. One commenter recommended adding Native American students and another commenter recommended adding students from racial minority groups with persistent achievement gaps and students who are new immigrants to the United States whose education has been inadequate or interrupted. Two commenters recommended adding highly mobile students and migratory students to this definition. Several commenters recommended including students who are gifted, especially those traditionally underrepresented in gifted education programs, such as students from low-socioeconomic backgrounds, students with disabilities, and English learners. Another commenter recommended adding students who are underrepresented in an academic program, such as minorities and women in STEM fields. One commenter recommended including students with parents who have the same characteristics as high-need children and students, for example, students with parents who are English learners or who are incarcerated. Another commenter recommended adding pregnant and parenting students because of the barriers they face in enrolling, attending, and succeeding in school.

Discussion: The groups identified in the definition of high-need children and high-need students are examples of children and students who may be at risk of educational failure. The examples are provided for illustrative purposes only and are not meant to exclude other subgroups of students who may be at risk of educational failure. It is not practical or possible to include in the definition all the subgroups of students recommended by the commenters. We believe that it is appropriate to add students who are pregnant or parenting teenagers and students who are new immigrants and migrant students to call attention to the needs of these particular groups of students. We also believe that many of the groups of students that commenters recommended including in the definition would fall into the category of students who are not on track to becoming college- or career-ready by graduation and are at risk of educational failure and are, therefore, adding language to that effect in the definition.

Changes: We have added students who are pregnant or parenting teenagers, students who are new immigrants, students who are migrant, and students who are not on track to becoming college- or career-ready by graduation to the definition. We are also changing “English language learners” to “English learners.”

Comment: None.

Discussion: The proposed definition of high-need children and high-need students referred to children and students at risk of educational failure “or otherwise in need of special assistance and support.” Upon further reflection, we believe that the phrase “or otherwise in need of special assistance and support” is confusing and detracts from the intended focus of the priority on children and students who are at risk of educational failure. Therefore, we are removing this phrase from the definition. We also are adding language to clarify that students who have left school include students who have left college before receiving a college degree or certificate.

Changes: We have removed the phrase “or otherwise in need of special assistance and support” from the definition of high-need children and high-need students. We have replaced “who have left school before receiving a regular high school diploma” to “who have left school or college before receiving, respectively, a regular high school diploma or a college degree or certificate.”

High-Poverty School

Comment: One commenter expressed support for allowing middle and high schools to use data from feeder schools to demonstrate that they are high-poverty schools. The commenter noted that students in middle and high school are often reluctant to admit that they qualify for the free or reduced-price lunch program and that by defining a high-poverty school based on comparable data gathered at feeder schools, the Department would be able to reach more students in need. Several commenters requested that the definition of a high-poverty school be changed to mean a school with at least 40 percent of students eligible for the free or reduced-price lunch program, instead of 50 percent.

Discussion: We decline to change the definition of high-poverty school to mean a school with at least 40 percent of students eligible for the free or reduced-price lunch program. Changing the definition in this manner would greatly increase the number of schools designated as “high-poverty schools” and would be inconsistent with the intent of new Priority 9 (proposed priority 6), which is to target resources on a limited number of schools that have the greatest need. With regard to the recommendation to permit the poverty rate for middle and high schools to be based on school lunch data for their feeder elementary schools, the proposed priority specifically allowed the calculation to be made on that basis.

Changes: None.

Open Educational Resources

Comment: Many commenters supported including a reference to open educational resources in proposed Priority 13 (new Priority 16). Two commenters recommended revising the definition of this term to include language that makes clear that resources released under an intellectual property license should permit sharing, accessing, repurposing (including for commercial purposes), and collaborating with others.

Discussion: We appreciate the commenters' support for including open educational resources in proposed Priority 13 (new Priority 16). We believe that the proposed definition of open educational resources includes the characteristics of open educational resources that the commenters recommended including in the definition and, therefore, do not believe it is necessary to change the definition in the manner recommended by the commenter.

Changes: None.

Persistently Lowest-Achieving Schools

Comment: Several commenters recommended revising the definition of persistently lowest-achieving schools in ways that would expand the number of schools identified as persistently lowest-achieving. Two commenters recommended that the definition be expanded to include support for other low-performing schools and for schools at risk of becoming low-performing. One commenter recommended revising the definition to include schools that have a high rate of student or teacher turnover. Another commenter stated that States and LEAs should have the flexibility to define persistently lowest-achieving schools.

Discussion: As stated earlier, our intention with Priority 4 is to support projects that will serve the lowest-achieving schools in our Nation. Accordingly, we used the definition of persistently lowest-achieving schools that is consistent with the definition used in the Department's SIG program authorized under section 1003(g) of the ESEA. Given this focus in Priority 4, we decline to make the changes recommended by the commenters.

Changes: None.

Rural Local Educational Agency

Comment: Several commenters noted that proposed Priority 6 (new Priority 9) (Improving Achievement and High School Graduation Rates) refers to students in rural communities and requested that the notice include a definition of “rural community.”

Discussion: We have changed “rural community” to “rural local educational agency” in new Priority 9 (proposed Priority 6) in order to be clear about the focus of paragraph (a) in this priority on students attending schools in rural local educational agencies. We, therefore, are adding a definition of rural local educational agency that is based on the definitions under the Small Rural School Achievement (SRSA) program or the Rural and Low-Income School (RLIS) program.

Changes: We have added the following definition: “Rural local educational agency means a local educational agency (LEA) that is eligible under the Small Rural School Achievement (SRSA) program or the Rural and Low-Income School (RLIS) program authorized under Title VI, Part B of the ESEA. Eligible applicants may determine whether a particular LEA is eligible for these programs by referring to information on the Department's Web site at: http://www2.ed.gov/nclb/freedom/local/reap.html.”

Strong Evidence

Comment: One commenter stated that additional language is needed in the definition of strong evidence to indicate that programs and projects that have been the subject of experimental and quasi-experimental studies with small sample sizes that limit generalizability, such as those potentially used in rural or remote areas, are considered to have strong evidence if they have been the subject of more than one well-designed and well-implemented study that supports the effectiveness of the practice, strategy, or program.

Discussion: We do not believe it is necessary to add language to the definition of strong evidence as recommended by the commenter. The definition of strong evidence includes evidence based on more than one well-designed and well-implemented experimental or quasi-experimental study that supports the effectiveness of the practice, strategy, or program. The language specifies that the “studies that in total include enough of the range of participants and settings to support “scaling up” to the State, regional, or national level (i.e., studies with high external validity)” could include evaluations of a practice, strategy, or program in multiple rural sites even though each site may include small numbers of students. On this basis, an applicant could, for example, propose to scale up a practice, strategy, or program in rural settings within a State or region or at the national level.

Changes: None.

Student Achievement

Comment: We received a number of comments regarding the “other measures of learning” referenced in the proposed definition of student achievement. Some commenters recommended including references to advanced placement exam scores; others recommended using ACT or SAT scores, or scores on tests that result in the awarding of college credit. One commenter recommended that the definition include non-academic factors such as peer, parent, and student evaluations; attendance rates; and rates of participation in extracurricular activities.

Discussion: The proposed definition of student achievement already includes examples of other measures of student learning and performance measures. We, therefore, do not believe it is necessary to include the measures recommended by commenters. We also note that the nonacademic factors recommended by one commenter would generally not be acceptable measures of student learning as the definition requires that other measures of student achievement be rigorous and comparable across schools.

Changes: None.

Student Growth

Comment: One commenter stated that the definition of student growth should be changed to refer to students participating in academic programs where those individuals are from underrepresented groups.

Discussion: We disagree with the commenter. The definition of student growth applies to all students, not to any specific subgroups of students.

Changes: None.

Other Comments

Comment: One commenter recommended adding a definition of “disaggregated data” to focus on data that have been cross-tabulated by gender; race, ethnicity, or both; disability; socio-economic status; and other student demographic characteristics to enable the data to be used to identify where interventions need to be made to close gaps in performance among student subgroups.

Discussion: The term, “disaggregated data” is not used in any of the priority language; therefore, we decline to add a definition in this notice.

Changes: None.

Final Priorities

I. Advancing Key Cradle-to-Career Educational Reforms

Priority 1—Improving Early Learning Outcomes

Projects that are designed to improve school readiness and success for high-need children (as defined in this notice) from birth through third grade (or for any age group of high-need children within this range) through a focus on one or more of the following priority areas:

(a) Physical well-being and motor development.

(b) Social-emotional development.

(c) Language and literacy development.

(d) Cognition and general knowledge, including early numeracy and early scientific development.

(e) Approaches toward learning.

Priority 2—Implementing Internationally Benchmarked, College- and Career-Ready Elementary and Secondary Academic Standards

Projects that are designed to support the implementation of internationally benchmarked, college- and career-ready academic standards held in common by multiple States and to improve instruction and learning, including projects in one or more of the following priority areas:

(a) The development or implementation of assessments (e.g., summative, formative, interim) aligned with those standards.

(b) The development or implementation of curriculum or instructional materials aligned with those standards.

(c) The development or implementation of professional development or preparation programs aligned with those standards.

(d) Strategies that translate the standards into classroom practice.

Priority 3—Improving the Effectiveness and Distribution of Effective Teachers or Principals

Projects that are designed to address one or more of the following priority areas:

(a) Increasing the number or percentage of teachers or principals who are effective or reducing the number or percentage of teachers or principals who are ineffective, particularly in high-poverty schools (as defined in this notice) including through such activities as improving the preparation, recruitment, development, and evaluation of teachers and principals; implementing performance-based certification and retention systems; and reforming compensation and advancement systems.

(b) Increasing the retention, particularly in high-poverty schools (as defined in this notice), and equitable distribution of teachers or principals who are effective.

For the purposes of this priority, teacher and principal effectiveness should be measured using:

(1) Teacher or principal evaluation data, in States or local educational agencies that have in place a high-quality teacher or principal evaluation system that takes into account student growth (as defined in this notice) in significant part and uses multiple measures, that, in the case of teachers, may include observations for determining teacher effectiveness (such as systems that meet the criteria for evaluation systems under the Race to the Top program as described in criterion (D)(2)(ii) of the Race to the Top notice inviting applications (74 FR 59803)); or

(2) Data that include, in significant part, student achievement (as defined in this notice) or student growth data (as defined in this notice) and may include multiple measures in States or local educational agencies that do not have the teacher or principal evaluation systems described in paragraph (1).

Priority 4—Turning Around Persistently Lowest-Achieving Schools

Projects that are designed to address one or more of the following priority areas:

(a) Improving student achievement (as defined in this notice) in persistently lowest-achieving schools (as defined in this notice).

(b) Increasing graduation rates (as defined in this notice) and college enrollment rates for students in persistently lowest-achieving schools (as defined in this notice).

(c) Providing services to students enrolled in persistently lowest-achieving schools (as defined in this notice).

Priority 5—Improving School Engagement, School Environment, and School Safety and Improving Family and Community Engagement

Projects that are designed to improve student outcomes through one or more of the following priority areas:

(a) Improving school engagement, which may include increasing the quality of relationships between and among administrators, teachers, families, and students and increasing participation in school-related activities.

(b) Improving the school environment, which may include improving the school setting related to student learning, safety, and health.

(c) Improving school safety, which may include decreasing the incidence of harassment, bullying, violence, and substance use.

(d) Improving parent and family engagement (as defined in this notice).

(e) Improving community engagement (as defined in this notice) by supporting partnerships between local educational agencies, school staff, and one or more of the following:

(i) Faith- or community-based organizations.

(ii) Institutions of higher education.

(iii) Minority-serving institutions or historically black colleges or universities.

(iv) Business or industry.

(v) Other Federal, State, or local government entities.

Priority 6—Technology

Projects that are designed to improve student achievement or teacher effectiveness through the use of high-quality digital tools or materials, which may include preparing teachers to use the technology to improve instruction, as well as developing, implementing, or evaluating digital tools or materials.

Priority 7—Core Reforms

Projects conducted in States, local educational agencies, or schools where core reforms are being implemented. Such a project is one that is conducted—

(a) In a State that has adopted K-12 State academic standards in English language arts and mathematics that build towards college- and career-readiness;

(b) In a State that has implemented a statewide longitudinal data system that meets all the requirements of the America COMPETES Act; and

(c) In a local educational agency or school in which teachers receive student growth (as defined in this notice) data on their current students and the students they taught in the previous year and these data are provided, at a minimum, to teachers of reading/language arts and mathematics in grades in which the State administers assessments in those subjects.

Priority 8—Increasing Postsecondary Success

Projects that are designed to address one or more of the following priority areas:

(a) Increasing the number and proportion of high-need students (as defined in this notice) who are academically prepared for and enroll in college or other postsecondary education and training.

(b) Increasing the number and proportion of high-need students (as defined in this notice) who persist in and complete college or other postsecondary education and training.

(c) Increasing the number and proportion of high-need students (as defined in this notice) who enroll in and complete high-quality programs of study (as defined in this notice) designed to lead to a postsecondary degree, credential, or certificate.

(d) Increasing the number of individuals who return to the educational system to obtain a high school diploma; to enroll in college or other postsecondary education or training; to obtain needed basic skills leading to success in college or other postsecondary education or the workforce; or to enter, persist in, and complete college or rigorous postsecondary career and technical training leading to a postsecondary degree, credential, or certificate.

(e) Increasing the number and proportion of high-need students (as defined in this notice) who enroll in and complete graduate programs.

(f) Increasing the number and proportion of postsecondary students who complete college or other postsecondary education and training and who are demonstrably prepared for successful employment, active participation in civic life, and lifelong learning.

II. Addressing Needs of Student Subgroups

Priority 9—Improving Achievement and High School Graduation Rates

Projects that are designed to address one or more of the following priority areas:

(a) Accelerating learning and helping to improve high school graduation rates (as defined in this notice) and college enrollment rates for students in rural local educational agencies (as defined in this notice).

(b) Accelerating learning and helping to improve high school graduation rates (as defined in this notice) and college enrollment rates for students with disabilities.

(c) Accelerating learning and helping to improve high school graduation rates (as defined in this notice) and college enrollment rates for English learners.

(d) Accelerating learning and helping to improve high school graduation rates (as defined in this notice) and college enrollment rates for high-need students (as defined in this notice).

(e) Accelerating learning and helping to improve high school graduation rates (as defined in this notice) and college enrollment rates in high-poverty schools (as defined in this notice).

(f) Accelerating learning and helping to improve high school graduation rates (as defined in this notice) and college enrollment rates for all students in an inclusive manner that ensures that the specific needs of high-need students (as defined in this notice) participating in the project are addressed.

Priority 10—Promoting Science, Technology, Engineering, and Mathematics (STEM) Education

Projects that are designed to address one or more of the following priority areas:

(a) Providing students with increased access to rigorous and engaging coursework in STEM.

(b) Increasing the number and proportion of students prepared for postsecondary or graduate study and careers in STEM.

(c) Increasing the opportunities for high-quality preparation of, or professional development for, teachers or other educators of STEM subjects.

(d) Increasing the number of individuals from groups traditionally underrepresented in STEM, including minorities, individuals with disabilities, and women, who are provided with access to rigorous and engaging coursework in STEM or who are prepared for postsecondary or graduate study and careers in STEM.

(e) Increasing the number of individuals from groups traditionally underrepresented in STEM, including minorities, individuals with disabilities, and women, who are teachers or educators of STEM subjects and have increased opportunities for high-quality preparation or professional development.

Priority 11—Promoting Diversity

Projects that are designed to promote student diversity, including racial and ethnic diversity, or avoid racial isolation.

Priority 12—Support for Military Families

Projects that are designed to address the needs of military-connected students (as defined in this notice).

III. Building Capacity for Systemic Continuous Improvement

Priority 13—Enabling More Data-Based Decision-Making

Projects that are designed to collect (or obtain), analyze, and use high-quality and timely data, including data on program participant outcomes, in accordance with privacy requirements (as defined in this notice), in one or more of the following priority areas:

(a) Improving instructional practices, policies, and child outcomes in early learning settings.

(b) Improving instructional practices, policies, and student outcomes in elementary or secondary schools.

(c) Improving postsecondary student outcomes relating to enrollment, persistence, and completion and leading to career success.

(d) Providing reliable and comprehensive information on the implementation of Department of Education programs, and participant outcomes in these programs by using data from State longitudinal data systems or by obtaining data from reliable third-party sources.

Priority 14—Building Evidence of Effectiveness

Projects that propose evaluation plans that are likely to produce valid and reliable evidence in one or more of the following priority areas:

(a) Improving project design and implementation or designing more effective future projects to improve outcomes.

(b) Identifying and improving practices, strategies, and policies that may contribute to improving outcomes.

Under this priority, at a minimum, the outcome of interest is to be measured multiple times before and after the treatment for project participants and, where feasible, for a comparison group of non-participants.

Priority 15—Supporting Programs, Practices, or Strategies for which there is Strong or Moderate Evidence of Effectiveness

Projects that are supported by strong or moderate evidence (as defined in this notice). A project that is supported by strong evidence (as defined in this notice) will receive more points than a project that is supported by moderate evidence (as defined in this notice).

Priority 16—Improving Productivity

Projects that are designed to significantly increase efficiency in the use of time, staff, money, or other resources while improving student learning or other educational outcomes (i.e., outcome per unit of resource). Such projects may include innovative and sustainable uses of technology, modification of school schedules and teacher compensation systems, use of open educational resources (as defined in this notice), or other strategies.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by—

(1) Awarding additional points, depending on the extent to which the application meets the priority (34 CFR 75.105(c)(2)(i)); or

(2) Selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Definitions:

Carefully matched comparison group design means a type of quasi-experimental study (as defined in this notice) that attempts to approximate an experimental study (as defined in this notice). More specifically, it is a design in which project participants are matched with non-participants based on key characteristics that are thought to be related to the outcome. These characteristics include, but are not limited to:

(1) Prior test scores and other measures of academic achievement (preferably, the same measures that the study will use to evaluate outcomes for the two groups);

(2) Demographic characteristics, such as age, disability, gender, English proficiency, ethnicity, poverty level, parents' educational attainment, and single- or two-parent family background;

(3) The time period in which the two groups are studied (e.g., the two groups are children entering kindergarten in the same year as opposed to sequential years); and

(4) Methods used to collect outcome data (e.g., the same test of reading skills administered in the same way to both groups).

Community engagement means the systematic inclusion of community organizations as partners with local educational agencies and school staff. These organizations may include faith- and community-based organizations, institutions of higher education (including minority-serving institutions and historically black colleges and universities), business and industry, or other Federal, State, and local government entities.

Experimental study means a study that employs random assignment of, for example, students, teachers, classrooms, schools, or districts to participate in a project being evaluated (treatment group) or not to participate in the project (control group). The effect of the project is the average difference in outcomes between the treatment and control groups.

Graduation rate means a four-year adjusted cohort graduation rate consistent with 34 CFR 200.19(b)(1) and may also include an extended-year adjusted cohort graduation rate consistent with 34 CFR 200.19(b)(1)(v) if the State in which the proposed project is implemented has been approved by the Secretary to use such a rate under Title I of the ESEA.

High-need children and high-need students means children and students at risk of educational failure, such as children and students who are living in poverty, who are English learners, who are far below grade level or who are not on track to becoming college- or career-ready by graduation, who have left school or college before receiving, respectively, a regular high school diploma or a college degree or certificate, who are at risk of not graduating with a diploma on time, who are homeless, who are in foster care, who are pregnant or parenting teenagers, who have been incarcerated, who are new immigrants, who are migrant, or who have disabilities.

High-poverty school means a school in which at least 50 percent of students are eligible for free or reduced-price lunches under the Richard B. Russell National School Lunch Act or in which at least 50 percent of students are from low-income families as determined using one of the criteria specified under section 1113(a)(5) of the Elementary and Secondary Education Act of 1965, as amended. For middle and high schools, eligibility may be calculated on the basis of comparable data from feeder schools. Eligibility as a high-poverty school under this definition is determined on the basis of the most currently available data.

Interrupted time series design means a type of quasi-experimental study (as defined in this notice) in which the outcome of interest is measured multiple times before and after the treatment for program participants only. If the program had an impact, the outcomes after treatment will have a different slope or level from those before treatment. That is, the series should show an “interruption” of the prior situation at the time when the program was implemented. Adding a comparison group time series, such as schools not participating in the program or schools participating in the program in a different geographic area, substantially increases the reliability of the findings.²

² A single subject or single case design is an adaptation of an interrupted time series design that relies on the comparison of treatment effects on a single subject or group of single subjects. There is little confidence that findings based on this design would be the same for other members of the population. In some single subject designs, treatment reversal or multiple baseline designs are used to increase internal validity. In a treatment reversal design, after a pretreatment or baseline outcome measurement is compared with a post treatment measure, the treatment would then be stopped for a period of time; a second baseline measure of the outcome would be taken, followed by a second application of the treatment or a different treatment. A multiple baseline design addresses concerns about the effects of normal development, timing of the treatment, and amount of the treatment with treatment-reversal designs by using a varying time schedule for introduction of the treatment and/or treatments of different lengths or intensity.

Military-connected student means (a) a child participating in an early learning program, a student in preschool through grade 12, or a student enrolled in postsecondary education or training who has a parent or guardian on active duty in the uniformed services (as defined by 37 U.S.C. 101, in the Army, Navy, Air Force, Marine Corps, Coast Guard, National Guard, or the reserve component of any of the aforementioned services) or (b) a student who is a veteran of the uniformed services, who is on active duty, or who is the spouse of an active-duty service member.

Moderate evidence means evidence from previous studies whose designs can support causal conclusions (i.e., studies with high internal validity) but have limited generalizability (i.e., moderate external validity), or studies with high external validity but moderate internal validity. The following would constitute moderate evidence:

(1) At least one well-designed and well-implemented (as defined in this notice) experimental or quasi-experimental study (as defined in this notice) supporting the effectiveness of the practice, strategy, or program, with small sample sizes or other conditions of implementation or analysis that limit generalizability;

(2) At least one well-designed and well-implemented (as defined in this notice) experimental or quasi-experimental study (as defined in this notice) that does not demonstrate equivalence between the intervention and comparison groups at program entry but that has no other major flaws related to internal validity; or

(3) Correlational research with strong statistical controls for selection bias and for discerning the influence of internal factors.

Open educational resources (OER) means teaching, learning, and research resources that reside in the public domain or have been released under an intellectual property license that permits their free use or repurposing by others.

Parent and family engagement means the systematic inclusion of parents and families, working in partnership with local educational agencies and school staff, in their child's education, which may include strengthening the ability of (a) parents and families to support their child's education and (b) school staff to work with parents and families.

Persistently lowest-achieving schools means, as determined by the State: (i) Any Title I school in improvement, corrective action, or restructuring that (a) is among the lowest-achieving five percent of Title I schools in improvement, corrective action, or restructuring or the lowest-achieving five Title I schools in improvement, corrective action, or restructuring in the State, whichever number of schools is greater; or (b) is a high school that has had a graduation rate as defined in 34 CFR 200.19(b) that is less than 60 percent over a number of years; and (ii) any secondary school that is eligible for, but does not receive, Title I funds that: (a) Is among the lowest-achieving five percent of secondary schools or the lowest-achieving five secondary schools in the State that are eligible for, but do not receive, Title I funds, whichever number of schools is greater; or (b) is a high school that has had a graduation rate as defined in 34 CFR 200.19(b) that is less than 60 percent over a number of years.

To identify the persistently lowest-achieving schools, a State must take into account both: (i) The academic achievement of the “all students” group in a school in terms of proficiency on the State's assessments under section 1111(b)(3) of the ESEA in reading/language arts and mathematics combined; and (ii) the school's lack of progress on those assessments over a number of years in the “all students” group.

Privacy requirements means the requirements of the Family Educational Rights and Privacy Act (FERPA), 20 U.S.C. 1232g, and its implementing regulations in 34 CFR part 99, the Privacy Act, 5 U.S.C. 552a, as well as all applicable Federal, State and local requirements regarding privacy.

Programs of study means career and technical education programs of study, which may be offered as an option to students (and their parents as appropriate) when planning for and completing future coursework, for career and technical content areas, that—

(a) Incorporate secondary education and postsecondary education elements;

(b) Include coherent and rigorous content aligned with challenging academic standards and relevant career and technical content in a coordinated, non-duplicative progression of courses that align secondary education with postsecondary education to adequately prepare students to succeed in postsecondary education;

(c) May include the opportunity for secondary education students to participate in dual or concurrent enrollment programs or other ways to acquire postsecondary education credits; and

(d) Lead to an industry-recognized credential or certificate at the postsecondary level, or an associate or baccalaureate degree.

Quasi-experimental study means an evaluation design that attempts to approximate an experimental design (as defined in this notice) and can support causal conclusions (i.e., minimizes threats to internal validity, such as selection bias, or allows them to be modeled). Well-designed and well-implemented (as defined in this notice) quasi-experimental studies (as defined in this notice) include carefully matched comparison group designs (as defined in this notice), interrupted time series designs (as defined in this notice), or regression discontinuity designs (as defined in this notice).

Regression discontinuity design study means, in part, a quasi-experimental study (as defined in this notice) design that closely approximates an experimental study (as defined in this notice). In a regression discontinuity design, participants are assigned to a treatment or comparison group based on a numerical rating or score of a variable unrelated to the treatment such as the rating of an application for funding. Another example would be assignment of eligible students, teachers, classrooms, or schools above a certain score (“cut score”) to the treatment group and assignment of those below the score to the comparison group.

Rural local educational agency means a local educational agency (LEA) that is eligible under the Small Rural School Achievement (SRSA) program or the Rural and Low-Income School (RLIS) program authorized under Title VI, Part B of the ESEA. Eligible applicants may determine whether a particular LEA is eligible for these programs by referring to information on the Department's Web site at http://www2.ed.gov/nclb/freedom/local/reap.html.

Strong evidence means evidence from previous studies whose designs can support causal conclusions (i.e., studies with high internal validity), and studies that in total include enough of the range of participants and settings to support scaling up to the State, regional, or national level (i.e., studies with high external validity). The following are examples of strong evidence:

(1) More than one well-designed and well-implemented (as defined in this notice) experimental study (as defined in this notice) or well-designed and well-implemented (as defined in this notice) quasi-experimental study (as defined in this notice) that supports the effectiveness of the practice, strategy, or program; or

(2) One large, well-designed and well-implemented (as defined in this notice) randomized controlled, multisite trial that supports the effectiveness of the practice, strategy, or program.

Student achievement means—

(a) For tested grades and subjects: (1) A student's score on the State's assessments under the ESEA; and, as appropriate, (2) other measures of student learning, such as those described in paragraph (b) of this definition, provided they are rigorous and comparable across schools.

(b) For non-tested grades and subjects: alternative measures of student learning and performance, such as student scores on pre-tests and end-of-course tests; student performance on English language proficiency assessments; and other measures of student achievement that are rigorous and comparable across schools.

Student growth means the change in student achievement (as defined in this notice) for an individual student between two or more points in time. A State may also include other measures that are rigorous and comparable across classrooms.

Well-designed and well-implemented means, with respect to an experimental or quasi-experimental study (as defined in this notice), that the study meets the What Works Clearinghouse evidence standards, with or without reservations (see http://ies.ed.gov/ncee/wwc/references/idocviewer/doc.aspx?docid=19&tocid=1 and in particular the description of “Reasons for Not Meeting Standards” at http://ies.ed.gov/ncee/wwc/references/idocviewer/Doc.aspx?docId=19&tocId=4#reasons).

This notice does not preclude us from proposing additional priorities, requirements, definitions, or selection criteria for a particular program, subject to meeting applicable rulemaking requirements.

Note: This notice does not solicit applications. In any year in which we choose to use one or more of these priorities and definitions, we invite applications through a notice in the Federal Register.

Executive Order 12866: Under Executive Order 12866, the Secretary must determine whether a regulatory action is “significant” and therefore subject to the requirements of the Executive order and subject to review by the Office of Management and Budget. Section 3(f) of Executive Order 12866 defines a “significant regulatory action” as an action likely to result in a rule that may (1) Have an annual effect on the economy of $100 million or more, or adversely affect a sector of the economy, productivity, competition, jobs, the environment, public health or safety, or State, local or tribal governments or communities in a material way (also referred to as an “economically significant” rule); (2) create serious inconsistency or otherwise interfere with an action taken or planned by another agency; (3) materially alter the budgetary impacts of entitlement grants, user fees, or local programs or the rights and obligations of recipients thereof; or (4) raise novel legal or policy issues arising out of legal mandates, the President's priorities, or the principles set forth in the Executive order. The Secretary has determined that this regulatory action is significant under section 3(f)(4) of the Executive order.

This notice has been reviewed in accordance with Executive Order 12866. Under the terms of the order, we have assessed the potential costs and benefits of this final regulatory action.

The potential costs associated with this final regulatory action are those resulting from statutory requirements and those we have determined as necessary for administering the Department's discretionary grant programs effectively and efficiently.

In assessing the potential costs and benefits—both quantitative and qualitative—of this final regulatory action, we have determined that the benefits of the final priorities and definitions justify the costs.

We have determined, also, that this final regulatory action does not unduly interfere with State, local, and tribal governments in the exercise of their governmental functions.

Intergovernmental Review: Some of the programs affected by these final priorities are subject to Executive Order 12372 and the regulations in 34 CFR part 79. One of the objectives of the Executive order is to foster an intergovernmental partnership and a strengthened federalism. The Executive order relies on processes developed by State and local governments for coordination and review of proposed Federal financial assistance.

Accessible Format: Individuals with disabilities can obtain this document in an accessible format (e.g., braille, large print, audiotape, or computer diskette) on request to the program contact person listed under FOR FURTHER INFORMATION CONTACT.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: December 8, 2010.
Arne Duncan,
Secretary of Education.

[FR Doc. 2010-31189 Filed 12-14-10; 8:45 am]

BILLING CODE 4000-01-P